FEDERAL DEPOSIT INSURANCE CORPORATION

Privacy Act of 1974; Systems of Records

AGENCY: Federal Deposit Insurance Corporation.

ACTION: Notice of amended, altered and consolidated systems of records.

SUMMARY: The Federal Deposit Insurance Corporation (“FDIC”) has conducted a review of systems of records notices published pursuant to the Privacy Act of 1974 (5 U.S.C. 552a, “Privacy Act”) and now publishes this notice of amended, revised, and consolidated systems of records.

DATES: Comments on the proposed routine uses for the systems of records included in this notice must be received by the FDIC on or before June 15, 2001. The amendments, revisions and consolidations that are the subject of this notice will become effective 45 days following publication in the Federal Register, unless a superseding notice to the contrary is published before that date.

ADDRESSES: Send written comments to Robert E. Feldman, Executive Secretary, Attention: Comments/OES, FDIC, 550 17th Street, NW., Washington, DC 20429. Comments may be hand-delivered to the guard station at the rear of the 550 17th Street Building (located on F Street), on business days between 7 a.m. and 5 p.m. (facsimile number (202) 898-3838; Internet address: comments@fdic.gov). Comments may be posted on the FDIC internet site at http://www.fdic.gov/regulations/laws/federal/propose.html and may be inspected and photocopied in the FDIC Public Information Center, Room 100, 801 17th Street, NW., Washington, DC 20429, between 9 a.m. and 4:30 p.m. on business days. All comments should refer to “FDIC Systems of Records.”

FOR FURTHER INFORMATION CONTACT: Fredrick L. Fisch, Senior Attorney, Privacy Act Officer, FDIC, Office of the Executive Secretary, 550 17th Street, NW., Washington, DC, 20429, (202) 898-3819.

SUPPLEMENTARY INFORMATION: The Privacy Act applies to information about individuals that may be retrieved by a unique identifier associated with each individual, such as a name or social security number. The information about each individual is called a “record”' and the system, whether manual or computer-driven, is called a “system of records.” A system is considered altered whenever certain fundamental changes are made to the system, such as whenever certain disclosures, called “routine uses,” are changed. U.S. Office of Management and Budget Circular A-130, Appendix I specifies periodic reviews of Privacy Act systems of records. In accordance with the reviews specified in Circular A-130, Appendix I, the FDIC has conducted a thorough review of FDIC's systems of records for accuracy and completeness. The FDIC has specifically considered changes in technology, function, and organization that may have rendered existing systems of records notices out-of-date and reviewed the routine uses published in the system notices to make sure they are necessary and compatible with the purposes for which the information is collected. Pursuant to that review, the FDIC hereby publishes this notice of amended, altered and consolidated systems of records. In its review, the FDIC has determined that two of its systems of records should be consolidated and that the remaining twenty-one systems notices require either technical and/or substantive revision.

Many of the revisions to existing systems of records reflected by this notice are minor, technical amendments necessitated by organizational changes within the FDIC. The location of various systems and the FDIC divisions or offices responsible for the maintenance of various systems have been updated to reflect these changes. Also, minor revisions have been made to clarify or more accurately describe various system elements and to insure the use of consistent language wherever possible.

The FDIC has identified two systems of records which should be consolidated (system 30-64-0009, Examiner Training and Education Records—FDIC and system 30-64-0007, Employee Education System—FDIC). Each system contains information about the educational and training course history of certain categories of employees. For reasons of efficiency, these systems are consolidated as system 30-64-0007, and the system name is changed to “Employee Training Information Records.”

Additional substantive revisions to FDIC systems of records notices are as follows:

1. A statement of the purpose(s) for maintaining each system of records is added to each system notice.

2. The “Contesting record procedures” section included in each system notice is amended to provide that individuals wishing to amend or contest information in the system should indicate the information being contested, the reason for contesting it, and the proposed revision to the information.

3. The “Notification procedure” of each system notice has been updated to provide that individuals requesting their own records must provide a notarized statement attesting to their identity.

4. A routine use presently included in sixteen system notices (30-64-0001, -0002, -0005, -0006, -0008, -0010, -0011, -0012, -0013, -0016, -0018, -0019, -0020, -0022, -0023 and -0024) regarding disclosure of information to courts, magistrates or administrative tribunals in connection with civil or criminal proceedings is amended to limit disclosure to instances when the FDIC is a party to the proceeding or has a significant interest in the proceeding and the information is determined to be relevant and necessary. This routine use has also been added to two systems, 30-64-0003 and -0017 as further detailed in the notices below.

5. A statement entitled “Disclosures to consumer reporting agencies” providing that “information, pursuant to subsection (b)(12) of the Privacy Act, may be disclosed to consumer reporting agencies in accordance with 31 U.S.C. 3711(e)” is added to five systems (30-64-0002, -0007, -0010, -0012, and -0022) and updated in one other system (30-64-0020). The update is to reference 31 U.S.C. 3711(e), thereby tracking the language of subsection (b)(12) of the Privacy Act and to note limitations on the disclosures. (Individuals are referred to 31 U.S.C. 3701(a)(3) and 15 U.S.C. 1681a(f) for a definition of the term “consumer reporting agency.”) The purpose of these disclosures is to provide an incentive for debtors to the FDIC to repay debts to the FDIC by making these debts part of their credit records. Disclosure of records will be limited to the individual's name, Social Security number, and other information necessary to establish the identity of the individual, and the existence, validity, amount, status and history of the debt.

6. A routine use providing that information may be disclosed to debt collection agents, to any appropriate Federal agency, or to other third parties who are authorized to collect a Federal debt for the purpose of collecting delinquent debts due to the FDIC is added to six systems (30-64-0002, -0007, -0010, -0012, -0020 and -0022). The purpose of this disclosure is to implement relevant portions of the Debt Collection Improvement Act of 1996. Disclosure of records will be limited to the individual's name, Social Security number, and other information necessary to establish the identity of the individual, and the existence, validity, amount, status and history of the debt.

7. A routine use providing that information may be disclosed to consultants and contractors to the extent that the information is relevant and necessary for them to perform their function or fulfill their contract is added to twelve systems (30-64-0003, -0004, -0005, -0007, -0008, -0010, -0011, -0012, -0016, -0018, -0019 and -0020). The routine use contains the proviso that those consultants and contractors are subject to the relevant provisions of the Privacy Act.

8. The “Safeguards” subsection of all system notices with records stored in electronic media is amended to state that records so stored are now password protected and accessible only by authorized personnel.

9. A “Note” is added to system 30-64-0001 (Attorney-Legal Intern Applicant Records) to provide for future record storage in electronic media.

10. The “Categories of records in the system” section in system 30-64-0002 (Financial Institutions Investigative and Enforcement Records) is amended to add suspicious activity reports. A “Note” is added after the “Categories of records in the system” section which states that certain records in the system may be proprietary to other Federal entities and that the FDIC may forward requests for such records to the originating agency. Routine use #2 is modified to include reporting of information contained in this system to licensing and standards boards, such as the bar associations and other groups who set standards of conduct for their professional members. The “Record access procedures” are revised to give notice of certain exemptions from disclosure under 12 CFR 310.13 and 5 U.S.C. 552a(j)(2) and (k)(2).

11. The “Routine uses of records” section in system 30-64-0003 (Administrative and Personnel Action Records) is revised to add three routine uses which authorize the disclosure of information to a court, magistrate or administrative tribunal and to certain government agencies for the specific purposes and subject to the limitations described in the routine uses.

12. The “Categories of records in the system” section in system 30-64-0004 (Changes in Bank Control Ownership Records) is amended to include certain financial information of proposed acquirers. The “Routine uses of records” section is revised to delete the current routine use and to add four routine uses which provide for disclosure of information to: Federal or state financial institution supervisory authorities; a court, magistrate or administrative tribunal; Federal, state or local regulatory authorities; and to a congressional office. The “Notification procedure” subsection is revised to provide that individuals requesting records about themselves must furnish their name, address, and the name and address of the FDIC insured institution. The “Record source categories” section is amended to add persons who filed a “Change in Control Notice” or “Notice of Acquisition of Control” forms during the period from 1989 to 1995. Also, a “Note” is included in the notice to advise that the system was maintained only for the period from 1989 to 1995, and that the resultant, current records system does not maintain information retrievable by name or any personal identifier.

13. The “Authority for maintenance of the system” section in system 30-64-0005 (Consumer Complaint and Inquiry Records) is revised to add section 9 of the Federal Deposit Insurance Act (12 U.S.C. 1819). The “Notification procedure” section is amended to provide that requests must include the name and address of the complainant or inquirer and the name and address of the insured depository institution that is the subject of the inquiry.

14. The “Categories of records in the system” section of system 30-64-0006 (Employee Confidential Financial Disclosure Records) is revised (i) to delete the Confidential Report of Employment Upon Resignation, and (ii) to delete from category (5) the limitation that certain employees' credit cards issued by FDIC insured state nonmember banks must not exceed a $10,000 line of credit. The “Policies and practices” section for storing, retrieving and safeguarding system records is updated to reflect that records are stored in electronic media, as well as paper format. A “Note” is added to the notice advising that various categories of records in the system are maintained in addition to those maintained in the government-wide system maintained by the United States Office of Government Ethics (known as “OGE/GOVT-2”).

15. As noted above, the system name of 30-64-0007, formerly known as “Employee Education System—FDIC,” is consolidated with system 30-64-0009 (Examiner Training and Education Records—FDIC) and is changed to “Employee Training Information Records.” The “Category of records in the system” section is amended to delete records pertaining to the educational history of employees prior to employment with the FDIC. The “Routine uses of records” section is revised to add a routine use which authorizes the disclosure of information to a court, magistrate, mediator or administrative tribunal. Also, a routine use providing for disclosure of information to vendors and other appropriate third parties for the purpose of verification of training or licensing requirements is amended to include professional licensing boards.

16. The name of system 30-64-0008, formerly known as the Chain Bank Report, is changed to “Chain Banking Organizations Identification Records.” The “Category of records” section is amended to include stock certificate numbers, total asset size, the percentage of stock ownership, name of intermediate holding company and the percentage of holding company stock held by the controlling individual or group owning or controlling two or more insured depository institutions. The “Policies and practices” section for storing, retrieving and safeguarding the system records is updated to reflect that records are stored only in electronic media and are retrievable by an assigned identification number, as well as by name.

17. The name of system 30-64-0010, formerly known as “Investigative Files and Records,” is changed to “Investigative Files of the Office of the Inspector General.” The “Category of records in the system” section is amended to include records and information regarding possible violations of the FDIC employee and contractor Standards of Conduct. Routine uses (1), (2) and (5) are revised, and eight new routine uses are included which authorize the disclosure of information to various agencies, organizations or individuals for the specific purposes and subject to the limitations described in the routine uses. These routine uses are compatible with the purposes for which the records were assembled, as they are narrowly tailored under limited circumstances and are exemplary of other approved routine uses for other records of Inspectors General in other federal agencies subject to the Privacy Act. A “Note” is added after the routine uses stating that records may additionally be disclosed if they are also present in other nonexempt systems of records. The “Retention and disposal” section is amended to provide that records will be retained for a period of ten years and then destroyed. A second “Note” after the “Notification procedure” subsection is added to give the proviso that some records may be exempt from the disclosure provisions of the Privacy Act as further explained in a subsequent subsection of the notice.

18. The name of system 30-64-0011, formerly known as the “Vacancy Announcement Tracking System,” is changed to “Corporate Recruitment Tracking Records.” The Office of Government Ethics is added as an agency to which information may be disclosed under routine use (1).

19. The name of system 30-64-0012, formerly known as the “Financial Information System”, is changed to “Financial Information Management Records.” The “System location” section is revised to specify that certain records concerning FDIC employees are located with the General Counsel, Legal Division. A similar change is implemented for the “System manager” section, but only as to limited, specific records enumerated in the system notice. The “Categories of individuals covered by the system” section is amended to include “FDIC customers.” A “Note” is added after the “Categories of individuals covered by the system” section stating that the system also contains records concerning failed bank receiverships, corporations and other entities the records of which are not subject to the Privacy Act. The “Authority for maintenance of the system” section is amended to delete the reference to the Travel Expense Act of 1949. Routine use (6) providing for disclosure of information to the U.S. Treasury Department for use in the preparation of savings bonds is deleted. The “Retention and disposal” section has been revised to provide that certain of the system records are to be retained for a period of ten years and then transferred to the Federal Records Center or destroyed. The “Notification procedure” subsection has been revised to state that individuals seeking access to the system must include certain identifying information to aid in the location of records.

20. The “System location” section of 30-64-0013 (Insured Bank Liquidation Records) is revised to reflect that records are now only located in Washington, DC or Dallas, Texas. The “Categories of individuals covered by the system” section is amended to include obligees of failed financial institutions for which FDIC has been appointed receiver or liquidator or provided with open-bank assistance. A “Note” is added after the aforementioned section which states that this system of records may also contain many records about business entities and other organizations that may not be subject to the Privacy Act. The “Categories of records in the system” section is revised to include records concerning receivership claims filed by claimants, creditors, or obligees of the failed financial institution. A “Note” is added after the aforementioned section which gives notice that records are only held in the system if not inconsistent with any state law governing failed financial institution receiverships.

21. The name of system 30-64-0016, formerly known as the “Municipal Securities Dealers and Government Securities Brokers/Dealers Personnel Records System,” is changed to “Professional Qualification Records for Municipal Securities Dealers, Municipal Securities Representatives and U.S. Government Securities Brokers/Dealers.”

22. The name of system 30-64-0017, formerly known as the “Medical Records and Emergency Contact Information System,” is changed to “Employee Medical and Health Assessment Records.” “Notes” are added advising that (i) in addition to the FDIC system of records, the United States Office of Personnel Management maintains its own government-wide system of records (known as “OPM/GOVT-10”), and (ii) the records are disclosed only to a very limited number of FDIC officials. Eight routine uses are added to authorize disclosure of information to various offices, agencies, or organizations for the specific purposes and subject to the limitations described in the routine uses. The “Policies and practices” section for storing and safeguarding the records is amended to reflect that records are stored in electronic media, as well as paper format. The “Notification procedure” section is revised to provide that all requests must contain the requestor's name and office where employed. The “Record source” section is amended to include records from health screening programs, ergonomic assessments or requests for health or medical accommodation.

23. The “Authority for maintenance of the system” section for system 30-64-0018 (Grievance Records) is revised to include section 9 of the Federal Deposit Insurance Act. Routine use (6), concerning release to the National Archives for records management inspections is deleted. The “Storage” subsection of the section, “Policies, and practices for storing, retrieving, accessing, retaining, and disposing of records in the system” is amended to provide that some of the records in the system may be stored in electronic media.

24. The name of system 30-64-0019, formerly known as the “Secondary Marketing Asset Prospect System,” is changed to “Potential Bidders List.”

25. The “Categories of individuals covered by the system” section in system 30-64-0020 (Telephone Call Detail Records) is amended to include individuals who receive calls placed from or charged to FDIC telephones. Routine use (2), concerning release of information to the General Services Administration or the National Archives and Records Administration, is deleted.

26. Two routine uses are added to system 30-64-0021 (Fitness Center Records) to allow for the release of information to courts, magistrates or administrative tribunals and to contractors or subcontractors under the restrictions and limitations detailed in the routine uses. A “Note” is added to provide for future record storage in electronic media.

27. The “Category of records in the system” section in system 30-64-0022 (Freedom of Information Act and Privacy Act Request Records) is expanded to further and better explain the types of records found in the system. A “Note” is added immediately after the aforementioned section which states that other Privacy Act records could become part of this system during the course of processing a request. The “System manager and address” section is updated to further identify the correct contact position within the Office of the Executive Secretary. The “Records access procedures” and “Contesting record procedures” sections are amended to note that material from FDIC systems of records which are exempt from certain Privacy Act requirements may be included in this system of records, and, if so, the material will retain its original exemption.

28. The “System location” section in system 30-64-0023 (Affordable Housing Program Records) is amended to reflect that all records in the system are now in one location. The “Categories of individuals covered by the system” section is revised to remove superfluous language. A “Note” is added immediately after the aforementioned section which sets forth some basic requirements for participation in FDIC's Affordable Housing Program.

29. The name of system 30-64-0024, formerly known as the “Unclaimed Deposits Reporting System,” is changed to “Unclaimed Deposit Account Records.” The “System location” section is amended to reflect that all records in the system are now in one location.

System of records 30-64-0015 (Unofficial Personnel System) is not being revised at this time. An amended Notice of this system will be published at a later date.

Accordingly, the FDIC proposes to adopt the following systems of records in their entirety as set forth below:

Federal Deposit Insurance Corporation

Table of Contents

30-64-0001 Attorney—Legal Intern Applicant Records

30-64-0002 Financial Institutions Investigative and Enforcement Records

30-64-0003 Administrative and Personnel Action Records

30-64-0004 Changes in Bank Control Ownership Records

30-64-0005 Consumer Complaint and Inquiry Records

30-64-0006 Employee Confidential Financial Disclosure Records

30-64-0007 Employee Training Information Records

30-64-0008 Chain Banking Organizations Identification Records

30-64-0009 [Reserved]

30-64-0010 Investigative Files of the Office of the Inspector General

30-64-0011 Corporate Recruitment Tracking Records

30-64-0012 Financial Information Management Records

30-64-0013 Insured Bank Liquidation Records

30-64-0014 [Reserved]

30-64-0015 Unofficial Personnel System (to be revised at a later date)

30-64-0016 Professional Qualification Records for Municipal Securities Dealers, Municipal Securities Representatives and U.S. Government Securities Brokers/Dealers

30-64-0017 Employee Medical and Health Assessment Records

30-64-0018 Grievance Records

30-64-0019 Potential Bidders List

30-64-0020 Telephone Call Detail Records

30-64-0021 Fitness Center Records

30-64-0022 Freedom of Information Act and Privacy Act Request Records

30-64-0023 Affordable Housing Program Records

30-64-0024 Unclaimed Deposit Account Records

30-64-0001

System name:

Attorney—Legal Intern Applicant Records.

System location:

Legal Division, FDIC, 550 17th Street, NW., Washington, DC 20429.

Categories of individuals covered by the system:

Applicants for the position of attorney or legal intern with the Legal Division of the FDIC.

Categories of records in the system:

Contains correspondence from the applicants and individuals whose names were provided by the applicants as references; applicants' resumes; application forms; and in some instances, comments of individuals who interviewed applicants; documents relating to an applicant's suitability or eligibility; and writing samples.

Authority for maintenance of the system:

Secs. 9 of the Federal Deposit Insurance Act (12 U.S.C. 1819).

Purpose(s):

The information in this system is used to evaluate the qualifications of individuals who apply for attorney or legal intern positions in the Legal Division.

Routine uses of records maintained in the system, including categories of users and the purposes of such uses:

Information in the system may be disclosed:

(1) In requesting information of individuals or concerns whose names were supplied by the applicant as references and/or past or present employers;

(2) To the United States Office of Personnel Management, the Merit Systems Protection Board, the Office of Special Counsel, the Federal Labor Relations Authority, an arbitrator, and the Equal Employment Opportunity Commission, to the extent disclosure is necessary to carry out the government-wide personnel management, investigatory, adjudicatory and appellate functions within their respective functions;

(3) To a congressional office in response to an inquiry made by the congressional office at the request of the individual to whom the record pertains;

(4) To a court, magistrate, or administrative tribunal in the course of presenting evidence, including disclosures to counsel or witnesses in the course of civil discovery, litigation, or settlement negotiations, or in connection with criminal proceedings when the FDIC is a party to the proceeding or has a significant interest in the proceeding and the information is determined to be relevant and necessary; and

(5) To the appropriate Federal, State, or local agency or authority responsible for investigating or prosecuting a violation of or for enforcing or implementing a statute, rule, regulation, or order, when the information indicates a violation or potential violation of law, whether civil, criminal, or regulatory in nature, and whether arising by general statute or particular program statute, or by regulation, rule, or order issued pursuant thereto.

Policies and practices for storing, retrieving, accessing, retaining, and disposing of records in the system:

Storage:

Records are stored in paper format within individual file folders in file cabinets.

Note: In the future all or some portion of the records may be stored in electronic media. These records will be retrieved by name and will be password protected and accessible only by authorized personnel.

Retrievability:

Individual file folders are indexed and retrieved by name. Records of unsuccessful applicants are indexed first by job position category and year and then by name.

Safeguards:

Records are maintained in lockable metal file cabinets accessible only by authorized personnel.

Retention and disposal:

Records of unsuccessful applicants are retained two years after their submission; records of successful applicants become a part of the FDIC's “Unofficial Personnel System” (FDIC 30-64-0015) and are retained two years after the applicant leaves the employ of the FDIC.

System manager(s) and address:

General Counsel, Legal Division, FDIC, 550 17th Street, NW., Washington, DC 20429.

Notification procedure:

Individuals wishing to determine if they are named in this system of records, or to gain access to records maintained in this system, must submit their request in writing to the Office of the Executive Secretary, FOIA/PA Unit, FDIC, 550 17th Street, NW., Washington, DC 20429. Unsuccessful applicants or those individuals with applications pending with the FDIC who request their records must identify the job position description and year in which they applied. Individuals requesting their own records must provide their name, address and a notarized statement attesting to their identity.

Record access procedures:

See “Notification procedure” above.

Contesting record procedures:

See “Notification procedure” above. Individuals wishing to contest or amend information maintained in this system should specify the information being contested, the reasons for contesting it, and the proposed amendment to such information.

Record source categories:

The information is obtained from the applicants; references supplied by the applicants; current and/or former employers of the applicants; and FDIC employees who interviewed the applicants.

Exemptions claimed for the system:

Pursuant to 12 CFR 310.13(b), investigatory material compiled solely for the purpose of determining suitability, eligibility, or qualifications for FDIC employment may be withheld from disclosure to the extent that disclosure of such material would reveal the identity of a source who furnished information to the FDIC under an express promise of confidentiality.

30-64-0002

System name:

Financial Institutions Investigative and Enforcement Records.

System location:

Division of Supervision, Special Activities Section, FDIC, 550 17th Street, NW., Washington, DC 20429.

Categories of individuals covered by the system:

(1) Individuals who participate or have participated in the conduct of or who are or were connected with financial institutions, such as directors, officers, employees, and customers, and who have been named in suspicious activity reports, investigatory records, or administrative enforcement orders or agreements. Financial institutions include banks, savings and loan associations, credit unions, other similar institutions, and their affiliates whether or not federally insured and whether or not established or proposed.

(2) Individuals, such as directors, officers, employees, controlling shareholders, or persons seeking to establish control of financial institutions, who are the subject of background checks designed to uncover criminal activities bearing on the individual's fitness to be a director, officer, employee, or controlling shareholder.

Categories of records in the system:

Contains interagency or intra-agency correspondence or memoranda; criminal referral reports; suspicious activity reports; newspaper clippings; Federal, State, or local criminal law enforcement agency investigatory reports, indictments and/or arrest and conviction information; and administrative enforcement orders or agreements.

Note: Certain records contained in this system (principally criminal investigation reports prepared by the Federal Bureau of Investigation, Secret Service, and other federal law enforcement agencies) are the property of federal law enforcement agencies. Upon receipt of a request for such records, the FDIC will notify the proprietary agency of the request and seek guidance with respect to disposition. The FDIC may forward the request to that agency for processing in accordance with that agency's regulations.

Authority for maintenance of the system:

Secs. 5, 6, 7, 8, 9, 18, and 19 of the Federal Deposit Insurance Act (12 U.S.C. 1815, 1816, 1817, 1818, 1819, 1828, 1829).

Purpose(s):

The information is maintained to support the FDIC's regulatory and supervisory functions by providing a centralized system of information (1) for conducting and documenting investigations by the FDIC or other financial supervisory or law enforcement agencies regarding conduct within financial institutions by directors, officers, employees, and customers, which may result in the filing of suspicious activity reports or criminal referrals, referrals to the FDIC Office of the Inspector General, or the issuance of administrative enforcement actions; and (2) to identify whether an individual is fit to serve as a financial institution director, officer, employee or controlling shareholder.

Routine uses of records maintained (other than proprietary records of another agency) including categories of users and the purposes of such uses:

Information in the system may be disclosed:

(1) To a court, magistrate, or administrative tribunal in the course of presenting evidence, including disclosures to counsel or witnesses in the course of civil discovery, litigation, or settlement negotiations or in connection with criminal proceedings, when the FDIC is a party to the proceeding or has a significant interest in the proceeding and the information is determined to be relevant and necessary;

(2) To the appropriate Federal, State, or local agency or authority, or to licensing boards, professional associations or administrative bodies responsible for investigating or prosecuting a violation of or for enforcing or implementing a statute, rule, regulation, or order when the information indicates a violation or potential violation of law, rule, regulation or order, whether civil, criminal, or regulatory in nature, and whether arising by general statute or particular program statute, or by regulation, rule, or order issued pursuant thereto;

(3) To a congressional office in response to an inquiry made by the congressional office at the request of the individual to whom the record pertains;

(4) To a financial institution affected by enforcement activities or reported criminal activities;

(5) To other Federal, State or foreign financial institutions supervisory or regulatory authorities;

(6) To a consultant, person or entity who contracts or subcontracts with the FDIC, to the extent necessary for the performance of the contract or subcontract. The recipient of the records shall be required to comply with the requirements of the Privacy Act of 1974, as amended (5 U.S.C. 552a); and

(7) To the Department of the Treasury, federal debt collection centers, other appropriate federal agencies, and private collection contractors or other third parties authorized by law, for the purpose of collecting or assisting in the collection of delinquent debts owed to the FDIC. Disclosure of information contained in these records will be limited to the individual's name, Social Security number, and other information necessary to establish the identity of the individual, and the existence, validity, amount, status and history of the debt.

Disclosures to consumer reporting agencies:

Disclosures may be made from this system, pursuant to subsection (b)(12) of the Privacy Act, to consumer reporting agencies in accordance with 31 U.S.C. 3711(e). (The term “consumer reporting agency” is defined by 31 U.S.C. 3701(a)(3) and 15 U.S.C. (f).) Disclosure of information contained in these records will be limited to the individual's name, Social Security number, and other information necessary to establish the identity of the individual, and the existence, validity, amount, status and history of the debt.

Policies and practices for storing, retrieving, accessing, retaining, and disposing of records in the system:

Storage:

Records are stored in electronic media and in paper format within individual file folders.

Retrievability:

Records are indexed and retrieved by name of the individual.

Safeguards:

Electronic files are password protected and accessible only by authorized persons. File folders are maintained in lockable metal file cabinets.

Retention and disposal:

Electronic media and paper copies are retained until no longer needed.

System managers and address:

Director, Division of Supervision, FDIC, 550 17th Street, NW., Washington, DC 20429.

Notification procedure:

Individuals wishing to determine if they are named in this system of records or seeking access to records maintained in this system must submit their request in writing to the Office of the Executive Secretary, FOIA/PA Unit, FDIC, 550 17th Street, NW., Washington, DC 20429. Individuals requesting their own records must provide their name and address, the name and address of the FDIC-insured bank, and a notarized statement attesting to their identity.

Record access procedure:

Portions of this system may contain records that are exempt from disclosure under 12 CFR 310.13 and 5 U.S.C. 552a(j)(2) and (k)(2). An individual who is the subject of a record in this system may access those records that are not exempt from disclosure. A determination whether a record may be accessed will be made at the time a request is received. See “Notification procedure” above.

Contesting record procedures:

Portions of this system may contain records that are exempt from disclosure and contest under 12 CFR 310.13 and 5 U.S.C. 552a(j)(2) and (k)(2). An individual who is the subject of a record in this system may contest those records that are not exempt from disclosure. A determination whether a record is exempt from contest shall be made at the time a request is received. See “Notification procedure” above. Individuals wishing to contest or amend information maintained in this system should specify the information being contested, the reasons for contesting it, and the proposed amendment to such information.

Record source categories:

Financial institutions; financial institution supervisory or regulatory authorities; newspapers or other public records; witnesses; current or former FDIC employees; criminal law enforcement and prosecuting authorities.

Exemptions claimed for the system:

Portions of the records in this system of records were compiled for law enforcement purposes and are exempt from disclosure under 12 CFR 310.13 and 5 U.S.C. 552a(k)(2). Federal criminal law enforcement investigatory reports maintained as part of this system may be the subject of exemptions imposed by the originating agency pursuant to 5 U.S.C. 552a(j)(2).

30-64-0003

System name:

Administrative and Personnel Action Records.

System locations:

Office of the Executive Secretary, FDIC, 550 17th Street, NW., Washington, DC 20429.

Categories of individuals covered by the system:

Individuals who have been the subject of administrative actions or personnel actions by the FDIC Board of Directors or by standing committees of the FDIC and individuals who have been the subject of administrative actions by FDIC officials under delegated authority.

Categories of records in the system:

Minutes of the meetings of the FDIC Board of Directors or standing committees and orders of the Board of Directors, standing committees, or other officials as well as annotations of entries into the minutes and orders.

Authority for maintenance of the system:

Secs. 8, 9, and 19 of the Federal Deposit Insurance Act (12 U.S.C. 1818, 1819, 1829).

Purpose(s):

The system is maintained to record the administrative and personnel actions taken by the FDIC Board of Directors, standing committees, or other officials.

Routine uses of records maintained in the system, including categories of users and the purposes of such uses:

Information in the system may be disclosed:

(8) To a court, magistrate, or administrative tribunal in the course of presenting evidence, including disclosures to counsel or witnesses in the course of civil discovery, litigation, or settlement negotiations or in connection with criminal proceedings, when the FDIC is a party to the proceeding or has a significant interest in the proceeding and the information is determined to be relevant and necessary;

(9) To the appropriate Federal, State, or local agency or authority responsible for investigating or prosecuting a violation of or for enforcing or implementing a statute, rule, regulation, or order when the information indicates a violation or potential violation of law, whether civil, criminal, or regulatory in nature, and whether arising by general statute or particular program statute, or by regulation, rule, or order issued pursuant thereto;

(10) To a congressional office in response to an inquiry made by the congressional office at the request of the individual to whom the record pertains;

(11) To a consultant, person or entity who contracts or subcontracts with the FDIC, to the extent necessary for the performance of the contract or subcontract. The recipient of the records shall be required to comply with the requirements of the Privacy Act of 1974, as amended (5 U.S.C. 552a); and

(12) To the U.S. Office of Personnel Management, General Accounting Office, the Office of Government Ethics, the Merit Systems Protection Board, the Office of Special Counsel, the Equal Employment Opportunity Commission, or the Federal Labor Relations Authority or its General Counsel of records or portions thereof determined to be relevant and necessary to carrying out their authorized functions, including but not limited to a request made in connection with the hiring or retention of an employee, the issuance of a security clearance, the reporting of an investigation of an employee, the letting of a contract or issuance of a grant, license, or other benefit by the requesting agency, but only to the extent that the information disclosed is necessary and relevant to the requesting agency's decision on the matter.

Policies and practices for storing, retrieving, accessing, retaining, and disposing of records in the system:

Storage:

Records are stored in electronic media, microfilm, paper format within individual file folders, minute book ledgers and index cards.

Retrievability:

Records are indexed and retrieved by name.

Safeguards:

Electronic files are password protected and accessible only by authorized personnel. Paper format, index cards, and minute book ledgers are stored in lockable metal file cabinets or vault accessible only by authorized personnel. A security copy of certain microfilmed portions of the records is retained at another location.

Retention and disposal:

Permanent.

System manager(s) and address:

Executive Secretary, FDIC, 550 17th Street, NW., Washington, DC 20429.

Notification procedure:

Individuals wishing to determine if they are named in this system or seeking access to records maintained in this system must submit their requests in writing to the Office of the Executive Secretary, FOIA/PA Unit, FDIC, 550 17th Street, NW., Washington, DC 20429. Individuals requesting their own records must provide their name, address and a notarized statement attesting to their identity.

Record access procedures:

See “Notification procedure” above.

Contesting record procedures:

See “Notification procedure” above. Individuals wishing to contest or amend information maintained in this system should specify the information being contested, the reason for contesting it, and the proposed amendment to such information.

Record source categories:

Intra-agency records.

Exemptions claimed for the system:

None.

30-64-0004

System name:

Changes in Bank Control Ownership Records.

System location:

Division of Supervision, FDIC, 550 17th Street, NW., Washington, DC 20429.

Categories of individuals covered by the system:

(a) Individuals who acquired or disposed of voting stock in an FDIC-insured bank resulting in a change of bank control or ownership; and (b) individuals who filed or are included as a member of a group listed in a “Notice of Acquisition of Control” of an FDIC-insured bank.

Note: The information is maintained only for the period 1989 to 1995. Commencing in 1996 the records were no longer collected nor maintained on an individual name or personal identifier basis and are not retrievable by individual name or personal identifier. Beginning in 1996, information concerning changes in bank control is collected and maintained based upon the name of the FDIC-insured financial institution or specialized number assigned to the FDIC-insured financial institution.

Categories of records in the system:

Records include the name of proposed acquirer; statement of assets and liabilities of acquirer; statement of income and sources of income for each acquirer; statement of liabilities for each acquirer; name and location of the bank; number of shares to be acquired and outstanding; date “Change in Control Notice” or “Notice of Acquisition of Control” was filed; name and location of the newspaper in which the notice was published and date of publication. For consummated transactions, names of sellers/transferors; names of purchasers/transferees and number of shares owned after transaction; date of transaction on institution's books, number of shares acquired and outstanding. If stock of a holding company is involved, the name and location of the holding company and the institution(s) it controls.

Authority for maintenance of the system:

Sec. 7 (j) of the Federal Deposit Insurance Act (12 U.S.C. 1817(j)).

Purpose(s):

The system maintains information on individuals involved in changes of control of FDIC-insured banks for the period 1989 to 1995 and is used to support the FDIC's regulatory and supervisory functions.

Routine uses of records maintained in the system, including categories of users and the purposes of such uses:

Information in the system may be disclosed:

(1) To other Federal or State financial institution supervisory authorities;

(2) To a court, magistrate, or administrative tribunal in the course of presenting evidence, including disclosures to counsel or witnesses in the course of civil discovery, litigation, or settlement negotiations or in connection with criminal proceedings when the FDIC is a party to the proceeding or has a significant interest in the proceeding and the information is determined to be relevant and necessary;

(3) To the appropriate Federal, State, or local agency or authority responsible for investigating or prosecuting a violation of or for enforcing or implementing a statute, rule, regulation, or order when the information indicates a violation or potential violation of law, whether civil, criminal, or regulatory in nature, and whether arising by general statute or particular program statute, or by regulation, rule, or order issued pursuant thereto;

(4) To a congressional office in response to an inquiry made by the congressional office at the request of the individual to whom the record pertains; and

(5) To a consultant, person or entity who contracts or subcontracts with the FDIC, to the extent necessary for the performance of the contract or subcontract. The recipient of the records shall be required to comply with the requirements of the Privacy Act of 1974, as amended (5 U.S.C. 552a).

Policies and practices for storing, retrieving, accessing, retaining, and disposing of records in the system:

Storage:

Records are stored in electronic media and in paper format within individual file folders.

Retrievability:

Records for the period 1989 to 1995 are indexed and retrieved by name of the individual.

Safeguards:

Electronic files are password protected and accessible only by authorized persons. File folders are maintained in lockable metal file cabinets.

Retention and disposal:

Electronic media and paper copies are retained until no longer needed and are destroyed in accordance with established FDIC record retention and disposal schedules.

System manager(s) and address:

Director, Division of Supervision, FDIC, 550 17th Street, NW., Washington, DC 20429.

Notification procedure:

Individuals wishing to determine if they are named in this system of records or seeking access to records maintained in this system must submit their request in writing to the Office of the Executive Secretary, FOIA/PA Unit, FDIC, 550 17th Street, NW., Washington, DC 20429. Individuals requesting their own records must provide their name, address, the name and address of the FDIC-insured bank, and a notarized statement attesting to their identity.

Record access procedures:

See “Notification procedure” above.

Contesting record procedures:

See “Notification procedure” above. Individuals wishing to contest or amend the information maintained in this system should specify the information being contested, the reasons for contesting it, and the proposed amendment to such information.

Record source categories:

Persons who acquired control of an FDIC-insured bank; the insured bank or holding company in which control changed; filed “Change in Control Notice” form and “Notice of Acquisition of Control” form during the period 1989 to 1995; Federal and State financial institution supervisory authorities.

Exemptions claimed for the system:

None.

30-64-0005

System name:

Consumer Complaint and Inquiry Records.

System location:

Division of Compliance and Consumer Affairs, FDIC, 550 17th Street, NW., Washington, DC 20429, and FDIC regional offices for complaints or inquiries originating within or involving an FDIC-insured depository institution located in an FDIC region. (See Appendix A for a list of the FDIC regional offices and their addresses.)

Categories of individuals covered by the system:

Individuals who have submitted complaints or inquiries concerning activities or practices of FDIC-insured depository institutions.

Categories of records in the system:

Contains correspondence and records of other communications between the FDIC and the individual submitting a complaint or making an inquiry, including copies of supporting documents supplied by the individual. May contain correspondence between the FDIC and the FDIC-insured depository institution in question and/or intra-agency or inter-agency memoranda or correspondence concerning the complaint or inquiry.

Authority for maintenance of the system:

Sec. 9 of the Federal Deposit Insurance Act (12 U.S.C. 1819) and sec. 202(f) of title II of the Federal Trade Improvement Act (15 U.S.C. 57a(f)).

Purpose(s):

The system maintains correspondence from individuals regarding complaints or inquiries concerning activities or practices of FDIC-insured depository institutions. The information is used to identify concerns of individuals, to manage correspondence received from individuals and to accurately respond to complaints, inquiries, views and concerns expressed by individuals. The information in this system supports the FDIC regulatory and supervisory functions.

Routine uses of records maintained in the system, including categories of users and the purposes of such uses:

Information in the system may be disclosed:

(1) To the insured depository institution which is the subject of the complaint or inquiry when necessary to investigate or resolve the complaint or inquiry;

(2) To authorized third-party sources during the course of the investigation in order to resolve the complaint or inquiry. Information that may be disclosed under this routine use is limited to the name of the complainant or inquirer and the nature of the complaint or inquiry and such additional information necessary to investigate the complaint or inquiry;

(3) To the Federal or State supervisory/regulatory authority that has direct supervision over the insured depository institution that is the subject of the complaint or inquiry;

(4) To the appropriate Federal, State, or local agency or authority responsible for investigating or prosecuting a violation of, or for enforcing or implementing a statute, rule, regulation, or order issued, when the information indicates a violation or potential violation of law, whether civil, criminal, or regulatory in nature, and whether arising by general statute or particular program statute, or by regulation, rule, or order issued pursuant thereto;

(5) To a court, magistrate, or administrative tribunal in the course of presenting evidence, including disclosures to counsel or witnesses in the course of civil discovery, litigation, or settlement negotiations or in connection with criminal proceedings, when the FDIC is a party to the proceeding or has a significant interest in the proceeding, to the extent that the information is determined to be relevant and necessary;

(6) To a congressional office in response to an inquiry made by the congressional office at the request of the individual to whom the record pertains; and

(7) To a consultant, person or entity who contracts or subcontracts with the FDIC, to the extent necessary for the performance of the contract or subcontract. The recipient of the records shall be required to comply with the requirements of the Privacy Act of 1974, as amended (5 U.S.C. 552a).

Policies and practices for storing, retrieving, accessing, retaining, and disposing of records in the system:

Storage:

Records are stored in electronic media and in paper format within individual file folders.

Retrievability:

Electronic media and paper format are indexed and retrieved by unique identification number which may be cross referenced to the name of complainant or inquirer.

Safeguards:

Electronic files are password protected and accessible only by authorized personnel. Paper format files are maintained in lockable metal file cabinets accessible only to authorized personnel.

Retention and disposal:

Records are retained for two years after receipt, unless updated by correspondence received during the second year. Electronic media is deleted and paper format records are destroyed in accordance with the FDIC Records Retention and Disposition Schedule.

System manager(s) and address:

Associate Director, Division of Compliance and Consumer Affairs, FDIC, 550 17th Street, NW., Washington, DC 20429, or the Regional Director, Division of Compliance and Consumer Affairs for records maintained in FDIC regional offices (See Appendix A for the location of FDIC Regional Offices).

Notification procedure:

Individuals wishing to determine if they are named in this system of records or seeking access to records maintained in this system must submit their request in writing to the Office of the Executive Secretary, FOIA/PA Unit, FDIC, 550 17th Street, NW., Washington, DC 20429. The request must contain the name and address of the complainant or inquirer and the name and address of the insured depository institution that is the subject of the complaint or inquiry. Individuals requesting their own records must provide their name, address and a notarized statement attesting to their identity.

Record access procedures:

See “Notification procedure” above.

Contesting record procedures:

See “Notification procedure” above. Individuals wishing to contest or amend information maintained in this system should specify the information being contested, the reasons for contesting it, and the proposed amendment to such information.

Record source categories:

The information is obtained from the individual on whom the record is maintained; FDIC-insured depository institutions that are the subject of the complaint; the appropriate agency, whether Federal or State, with supervisory authority over the institution; congressional offices that may initiate the inquiry; and other parties providing information to the FDIC in an attempt to resolve the complaint or inquiry.

Exemptions claimed for the system:

None.

30-64-0006

System name:

Employee Confidential Financial Disclosure Records.

System location:

Records are located in component divisions, offices and regional offices to which individuals covered by the system are assigned. Duplicate copies of the records are located in the Office of the Executive Secretary, FDIC, 550 17th Street, NW., Washington, DC 20429. A complete list of record locations is available from the Office of the Executive Secretary, FDIC, 550 17th Street, NW., Washington, DC 20429 (See Appendix A for a list of the FDIC regional offices and their addresses).

Categories of individuals covered by the system:

Current and former officers and employees, and special government employees.

Categories of records in the system:

Contains statements of personal and family financial holdings and other interests in business enterprises and real property; listings of creditors and outside employment; opinions and determinations of ethics counselors; information related to conflict of interest determinations; and information contained on the following forms:

(1) Confidential Financial Disclosure Report—contains listing of personal and family investment holdings, interests in business enterprises and real property, creditors, and outside employment.

(2) Confidential Report of Indebtedness—contains information on extensions of credit to employees, including loans and credit cards, by FDIC-insured depository institutions or their subsidiaries; may also contain memoranda and correspondence relating to requests for approval of certain loans extended by insured banks or subsidiaries thereof.

(3) Confidential Report of Interest in FDIC-Insured Depository Institution Securities—contains a brief description of an employee's direct or indirect interest in the securities of an FDIC-insured depository institution or affiliate, including a depository institution holding company, and the date and manner of acquisition or divestiture; a brief description of an employee's direct or indirect continuing financial interest through a pension or retirement plan, trust or other arrangement, including arrangements resulting from any current or prior employment or business association, with any FDIC-insured depository institution, affiliate, or depository institution holding company; and a certification acknowledging that the employee has read and understands the rules governing the ownership of securities in FDIC-insured depository institutions.

(4) Employee Certification and Acknowledgment of Standards of Conduct Regulation—contains employee's certification and acknowledgment that he or she has received a copy of the Standards of Ethical Conduct for Employees of the FDIC.

(5) Confidential Statement of Credit Card Obligation in FDIC-insured State Nonmember Bank and Acknowledgment of Conditions for Retention—Notice of Disqualification—for Division of Supervision and Division of Compliance and Consumer Affairs employees; identifies FDIC-insured State Nonmember depository institutions outside the employee's region or field office of assignment from which a credit card was obtained, and employee certification that the credit cards listed were obtained only under such terms and conditions as are available to the general public, and that the employee is aware of and understands the requirement for self-disqualification from participation in matters affecting the creditors identified.

Note: The records identified in categories (2)-(5) above are maintained in addition to those maintained by the United States Office of Government Ethics for the government-wide system of records identified as “Confidential Statements of Employment and Financial Interests,” (known as OGE/GOVT-2).

Authority for maintenance of the system:

Ethics in Government Act of 1978 (5 U.S.C. 7301 and App.); sec. 9 and 12(f) of the Federal Deposit Insurance Act (12 U.S.C. 1819(a) and 1822(f)); 26 U.S.C. 1043; Executive Order Nos. 12674 (as modified by 12731), 12565, and 11222; 5 CFR parts 2634, 2635 and 3201.

Purpose(s):

The records are maintained to assure compliance with the standards of conduct for Government employees contained in the Executive Orders, Federal Statutes and FDIC regulations and to determine if a conflict of interest exists between employment of individuals by the FDIC and their personal employment and financial interests.

Routine uses of records maintained in the system, including categories of users and the purposes of such uses:

Information in the system may be disclosed:

(1) To the appropriate Federal, State or local agency or responsible authority, such information that is necessary and pertinent for investigating or prosecuting a violation of or for enforcing or implementing a statute, rule, regulation, or order when the information indicates a violation or potential violation of law whether civil, criminal, or regulatory in nature, and whether arising by general statute or particular program statute or by regulation, rule, or order issued pursuant thereto;

(2) To a congressional office in response to an inquiry made by the congressional office at the request of the individual to whom the record pertains;

(3) To third party sources and their representatives during the course of an investigation to obtain information relevant or pertinent to resolve a conflict or potential conflict of interest. Information is disclosed to the extent necessary and pertinent to conduct an investigation with respect to a conflict of interest investigation or determination; and

(4) To a court, magistrate, or administrative tribunal in the course of presenting evidence, including disclosures to counsel or witnesses in the course of civil discovery, litigation or settlement negotiations, or in connection with the criminal proceedings, when the FDIC is a party to the proceeding or has a significant interest in the proceeding, to the extent that the information is determined to be relevant and necessary.

Policies and practices for storing, retrieving, accessing, retaining, and disposing of records in the system:

Storage:

Records are stored in electronic media and in paper format within individual file folders.

Retrievability:

Records are indexed and retrieved by name of individual. Electronic media and paper format do not index the names of prospective employees who are not selected for employment.

Safeguards:

Electronic files are password protected and accessible only by authorized personnel. Paper format copies are maintained in lockable file cabinets.

Retention and disposal:

Records concerning prospective employees who are not selected for employment are retained for one year and then destroyed, except that documents needed in an ongoing investigation will be retained until no longer needed in the investigation. All other records are retained for six years and then destroyed. Entries maintained in electronic media are deleted, except that paper format documents and electronic media entries needed in an ongoing investigation will be retained until no longer needed for the investigation.

System manager(s) and address:

Ethics Counselor, Office of the Executive Secretary, FDIC, 550 17th Street, NW., Washington, DC 20429.

Notification procedure:

Individuals wishing to determine if they are named in this system of records or seeking access to records maintained in this system must submit their request in writing to the Office of the Executive Secretary, FOIA/PA Unit, FDIC, 550 17th Street, NW., Washington, DC 20429. Individuals requesting their own records must provide their name, address and a notarized statement attesting to their identity. The request must identify the office location of the individual covered by the system.

Record access procedures:

See “Notification procedure” above.

Contesting record procedures:

See “Notification procedure” above. Individuals wishing to contest or amend information maintained in this system should specify the information being contested, the reasons for contesting it, and the proposed amendment to such information.

Record source categories:

The information is obtained from the individual or a person or entity designated by the individual; Ethics Counselors; Deputy Ethics Counselors; support personnel or other parties to whom the FDIC has provided information in connection with evaluating the records maintained.

Exemptions claimed for the system:

None.

30-64-0007

System name:

Employee Training Information Records.

System location:

Division of Administration, Training and Consulting Services Branch, 3501 Fairfax Drive, Arlington, Virginia 22226; Office of Management and Policy, FDIC Office of Inspector General, 550 17th Street, NW., Washington, DC 20429.

Categories of individuals covered by the system:

All current and former employees.

Categories of records in the system:

Contains the educational and training course history of an individual while employed by the FDIC. Records include schedule of employee's training classes and other educational programs attended, dates of attendance, tuition fees and expenses. The system may also contain employee certifications on training attended, employee certifications or other information on educational degrees or professional memberships, and other similar information.

Authority for maintenance of the system:

Sec. 9 of the Federal Deposit Insurance Act (12 U.S.C. 1819).

Purpose(s):

The system is used by employees, training administrators and managers to record training and educational courses attended and to manage and plan training courses. The system maintains attendance records for an employee of courses attended and is utilized for FDIC internal reporting purposes and to maintain records for applicable continuing education requirements.

Routine uses of records maintained in the system, including categories of users and the purposes of such uses:

Information in the system may be disclosed:

(1) To the United States Office of Personnel Management, the Merit Systems Protection Board, the Office of Special Counsel, the Federal Labor Relations Authority, an arbitrator, the Equal Employment Opportunity Commission, or another Federal agency, to the extent disclosure is determined to be relevant and necessary to carry out government-wide personnel management, security, investigatory, adjudicatory and appellate functions, or the issuance of a contract, grant, license or other benefit by a requesting agency;

(2) To a court, magistrate, alternative dispute resolution mediator or administrative tribunal in the course of presenting evidence, including disclosures to counsel or witnesses in the course of civil discovery, litigation, or settlement negotiations or in connection with criminal proceedings when the FDIC is a party to the proceeding or has a significant interest in the proceeding and the information is determined to be relevant and necessary;

(3) To a congressional office in response to a written inquiry made by the congressional office at the request of the individual to whom the record pertains;

(4) To educational institutions for purposes of enrollment and verification of employee attendance and performance;

(5) To vendors, professional licensing boards or other appropriate third parties, for the purpose of verification, confirmation, and substantiation of training or licensing requirements.

(6) To a consultant, person or entity who contracts or subcontracts with the FDIC, to the extent necessary for the performance of the contract or subcontract. The recipient of the records shall be required to comply with the requirements of the Privacy Act of 1974, as amended (5 U.S.C. 552a); and

(7) To the Department of the Treasury, federal debt collection centers, other appropriate federal agencies, and private collection contractors or other third parties authorized by law, for the purpose of collecting or assisting in the collection of delinquent debts owed to the FDIC. Disclosure of information contained in these records will be limited to the individual's name, Social Security number, and other information necessary to establish the identity of the individual, and the existence, validity, amount, status and history of the debt.

Disclosures to consumer reporting agencies:

Disclosures may be made from this system, pursuant to subsection (b)(12) of the Privacy Act, to consumer reporting agencies in accordance with 31 U.S.C. 3711(e). (The term “consumer reporting agency” is defined by 31 U.S.C. 3701(a)(3) and 15 U.S.C. 1681a(f).) Disclosure of information contained in these records will be limited to the individual's name, Social Security number, and other information necessary to establish the identity of the individual, and the existence, validity, amount, status and history of the debt.

Policies and practices for storing, retrieving, accessing, retaining, and disposing of records in the system:

Storage:

Records are stored in electronic media and in paper format within individual file folders.

Retrievability:

Electronic media are accessible by social security number or name. File folders are indexed and retrieved by name of individual.

Safeguards:

Electronic files are password protected and accessible only by authorized personnel. Paper records within individual file folders are maintained in lockable metal file cabinets accessible only by authorized personnel.

Retention and disposal:

Permanent retention.

System manager(s) and addresses:

Assistant Director, Training Operations, Training and Consulting Services Branch, FDIC, 3501 Fairfax Drive, Arlington, Virginia 22226-3500; Assistant Inspector General, Office of Management and Policy, Office of Inspector General, 550 17th Street, NW., Washington, DC 20429.

Notification procedure:

Individuals wishing to determine if they are named in this system of records or seeking access to records maintained in this system must submit their request in writing to Office of the Executive Secretary, FOIA/PA Unit, FDIC, 550 17th Street, NW., Washington, DC 20429. Individuals requesting their own records must provide their name, address and a notarized statement attesting to their identity.

Record access procedures:

See “Notification procedure” above.

Contesting record procedures:

See “Notification procedure” above. Individuals wishing to contest or amend information maintained in this system should specify the information being contested, the reasons for contesting it, and the proposed amendment to such information.

Record source categories:

The information is obtained from the employee on whom the record is maintained; training administrators and the training facility or institution attended.

Exemptions claimed for the system:

None.

30-64-0008

System name:

Chain Banking Organizations Identification Records.

System location:

Division of Supervision, FDIC, 550 17th Street, NW., Washington, DC 20429, and FDIC regional offices. (See Appendix A for a list of the FDIC regional offices and their addresses.)

categories of individuals covered by the system:

Individuals who directly, indirectly, or in concert with others, own or control two or more insured depository institutions.

Categories of records in the system:

Contains information relating to an individual (or group of individuals acting in concert) that own or control two or more insured depository institutions as well as the insured depository institutions names, locations, stock certificate numbers, total asset size, and percentage of outstanding stock owned by the controlling individual or group of individuals; charter types and, if applicable, name of intermediate holding entity and percentage of holding company held by controlling individual or group.

Authority for maintenance of the system:

Secs. 7(j) and 9 of the Federal Deposit Insurance Act (12 U.S.C. 1817(j) and 1819).

Purpose(s):

This system identifies and maintains information of possible linked FDIC-insured depository institutions or holding companies which, due to their common ownership, present a concentration of resources that could be susceptible to common risks. The information in this system is used to support the FDIC's regulatory and supervisory functions.

Routine uses of records maintained in the system, including categories of users and the purposes of such uses:

Information in the system may be disclosed:

(1) To other Federal or State financial institution supervisory authorities for: (a) Coordination of examining resources when the chain banking organization is composed of insured depository institutions subject to multiple supervisory jurisdictions; (b) coordination of evaluations and analysis of the condition of the consolidated chain organization; and (c) coordination of supervisory, corrective or enforcement actions;

(2) To the appropriate Federal, State or local agency or responsible authority, such information that is necessary and pertinent for investigating or prosecuting a violation of or for enforcing or implementing a statute, rule, regulation or order, when the information indicates a violation or potential violation of law, whether civil, criminal or regulatory in nature, and whether arising by general statute or particular program statute or by regulation, rule or order issued pursuant thereto;

(3) To a court, magistrate, or administrative tribunal in the course of presenting evidence, including disclosures to counsel or witnesses in the course of civil discovery, litigation, or settlement negotiations or in connection with criminal law proceedings, when the FDIC is a party to the proceeding or has a significant interest in the proceeding, to the extent that the information is determined to be relevant and necessary;

(4) To a congressional office in response to an inquiry made by the congressional office at the request of the individual to whom the record pertains; and

(5) To a consultant, person or entity who contracts or subcontracts with the FDIC, to the extent necessary for the performance of the contract or subcontract. The recipient of the records shall be required to comply with the requirements of the Privacy Act of 1974, as amended (5 U.S.C. 552a).

Policies and practices for storing, retrieving, accessing, retaining and disposing of records in the system:

Storage:

Records are stored in electronic media.

Retrievability:

Indexed and retrieved by name of controlling individual(s) or assigned identification number.

Safeguards:

Electronic files are password protected and accessible only by authorized personnel.

Retention and disposal:

Records are maintained in electronic media. Certain records are archived in off-line storage. All records are periodically updated to reflect changes and maintained as long as needed and then deleted.

System manager(s) and address:

Director, Division of Supervision, FDIC, 550 17th Street, NW., Washington, DC 20429

Notification procedure:

Individuals wishing to determine if they are named in this system of records or to gain access to records maintained in this system must submit their request in writing to the Office of the Executive Secretary, FOIA/PA Unit, FDIC, 550 17th Street, NW., Washington, DC 20429. Individuals requesting their own records must provide their name, address and a notarized statement attesting to their identity.

Record access procedures:

See “Notification procedure” above.

Contesting record procedures:

See “Notification procedure” above. Individuals wishing to contest or amend information maintained in this system should specify the information being contested, the reasons for contesting it, and the proposed amendment to such information.

Record source categories:

Examination reports and related materials; regulatory filings; and Change in Bank Control Notices filed pursuant to 12 U.S.C. 1817(j).

Exemptions claimed for the system:

None.

30-64-009 [Reserved]

30-64-0010

System name:

Investigative Files of the Office of the Inspector General.

System location:

Office of the Inspector General (“OIG”), FDIC, 550 17th Street, NW., Washington, DC 20429. In addition, records are maintained at OIG field offices. OIG field office locations can be obtained by contacting the Assistant Inspector General for Investigations, 550 17th Street, NW., Washington, DC 20429.

Categories of individuals covered by the system:

Current and former FDIC employees and individuals involved in or associated with FDIC programs and operations including contractors, subcontractors, vendors and individuals associated with inquiries and investigations, including witnesses, complainants, and suspects.

Categories of records in the system:

Investigative files, including memoranda, computer-generated background information, correspondence, computerized case management and tracking files, reports of investigations with related exhibits, statements, affidavits, records or other pertinent documents, reports from or to other law enforcement bodies, pertaining to violations or potential violations of criminal laws, fraud, waste, and abuse with respect to administration of FDIC programs and operations, and violations of employee and contractor Standards of Conduct as set forth in section 12(f) of the Federal Deposit Insurance Act (12 U.S.C. 1822(f)) and 5 CFR parts 2634, 2635 and 3201.

Authority for maintenance of the system:

Sec. 9 of the Federal Deposit Insurance Act (12 U.S.C. 1819); the Inspector General Act of 1978, as amended, (5 U.S.C. App. 3).

Purpose(s):

Pursuant to the Inspector General Act, the system is maintained for the purposes of (1) conducting and documenting investigations by the OIG or other investigative agencies regarding FDIC programs and operations in order to determine whether employees or other individuals have been or are engaging in waste, fraud and abuse with respect to the FDIC's programs or operations and reporting the results of investigations to other Federal agencies, other public authorities or professional organizations which have the authority to bring criminal or civil or administrative actions, or to impose other disciplinary sanctions; (2) documenting the outcome of OIG investigations; (3) maintaining a record of the activities which were the subject of investigations; (4) reporting investigative findings to other FDIC components or divisions for their use in operating and evaluating their programs or operations, and in the imposition of civil or administrative sanctions; and (5) acting as a repository and source for information necessary to fulfill the reporting requirements of the Inspector General Act.

Routine uses of records maintained in the system, including categories of users and purposes of such uses:

Information in the system may be disclosed:

(1) To the appropriate Federal, State, local, foreign or international agency or authority responsible for investigating or prosecuting a violation of or for enforcing or implementing a statute, rule, regulation, or order, when the record, either by itself or in combination with other information, indicates a violation or potential violation of law, or contract, whether civil, criminal, or regulatory in nature, and whether arising by general statute or particular program statute, or by regulation, rule, or order issued pursuant thereto;

(2) To a court, magistrate, alternative dispute resolution mediator or administrative tribunal in the course of presenting evidence, including disclosures to counsel or witnesses in the course of civil discovery, litigation, or settlement negotiations or in connection with criminal proceedings when the FDIC or OIG is a party to the proceeding or has a significant interest in the proceeding and the information is determined to be relevant and necessary;

(3) To the FDIC's or another Federal agency's legal representative, including the U.S. Department of Justice or other retained counsel, when the FDIC, OIG or any employee thereof is a party to litigation or administrative proceeding or has a significant interest in the litigation or proceeding;

(4) To a grand jury agent pursuant either to a Federal or State grand jury subpoena or to a prosecution request that such record be released for the purpose of its introduction to a grand jury;

(5) To the subjects of an investigation and their representatives during the course of an investigation and to any other person or entity that has or may have information relevant or pertinent to the investigation to the extent necessary to assist in the conduct of the investigation;

(6) To third-party sources during the course of an investigation only such information as determined to be necessary and pertinent to the investigation in order to obtain information or assistance relating to an audit, trial, hearing, or any other authorized activity of the OIG;

(7) To a congressional office in response to a written inquiry made by the congressional office at the request of the individual to whom the records pertain;

(8) To a Federal, State, or local agency maintaining civil, criminal, or other relevant enforcement information or other pertinent information, such as current licenses, if necessary for the FDIC to obtain information concerning the hiring or retention of an employee, the issuance of a security clearance, the letting of a contract, or the issuance of a license, grant, or other benefit;

(9) To a Federal agency responsible for considering suspension or debarment action where such record is determined to be necessary and relevant;

(10) To a consultant, person or entity who contracts or subcontracts with the FDIC or OIG, to the extent necessary for the performance of the contract or subcontract. The recipient of the records shall be required to comply with the requirements of the Privacy Act of 1974, as amended (5 U.S.C. 552a);

(11) To a governmental, public or professional or self-regulatory licensing organization when such record indicates, either by itself or in combination with other information, a violation or potential violation of professional standards, or reflects on the moral, educational, or professional qualifications of an individual who is licensed or who is seeking to become licensed;

(12) To the U.S. Office of Personnel Management, General Accounting Office, Office of Government Ethics, Merit Systems Protection Board, Office of Special Counsel, Equal Employment Opportunity Commission, Department of Justice, Office of Management and Budget or the Federal Labor Relations Authority of records or portions thereof determined to be relevant and necessary to carrying our their authorized functions, including but not limited to a request made in connection with the hiring or retention of an employee, rendering advice requested by OIG, the issuance of a security clearance, the reporting of an investigation of an employee, the reporting of an investigation of prohibited personnel practices, the letting of a contract or issuance of a grant, license, or other benefit by the requesting agency, but only to the extent that the information disclosed is necessary and relevant to the requesting agency's decision on the matter;

(13) To the Department of the Treasury, federal debt collection centers, other appropriate federal agencies, and private collection contractors or other third parties authorized by law, for the purpose of collecting or assisting in the collection of delinquent debts owed to the FDIC. Disclosure of information contained in these records will be limited to the individual's name, Social Security number, and other information necessary to establish the identity of the individual, and the existence, validity, amount, status and history of the debt; and

(14) To other Federal Offices of Inspector General for the purpose of conducting quality assessments or peer reviews of the OIG, or its investigative components.

Note: In addition to the foregoing, a record which is contained in this system and derived from another FDIC system of records may be disclosed as a routine use as specified in the published notice of the system of records from which the record is derived.

Disclosures to consumer reporting agencies:

Disclosures may be made from this system, pursuant to subsection (b)(12) of the Privacy Act, to consumer reporting agencies in accordance with 31 U.S.C. 3711(e). (The term “consumer reporting agency” is defined by 31 U.S.C. 3701(a)(3) and 15 U.S.C. 1681a(f).) Disclosure of information contained in these records will be limited to the individual's name, Social Security number, and other information necessary to establish the identity of the individual, and the existence, validity, amount, status and history of the debt.

Policies and practices for storing, retrieving, accessing, retaining and disposing of records in the system:

Storage:

Records are stored in electronic media and in paper format within individual file folders.

Retrievability:

Records are indexed and retrieved by name of individual, unique investigation number assigned, referral number, or investigative subject matter.

Safeguards:

Electronic files are password protected and accessible only by authorized personnel. File folders are maintained in lockable metal file cabinets and lockable offices accessible only by authorized personnel.

Retention and disposal:

Electronic media and file folders are retained for ten years and then destroyed by deletion or shredding.

System manager(s) and address:

Assistant Inspector General for Investigations, FDIC, 550 17th Street, NW., Washington, DC 20429.

Notification procedure:

Individuals wishing to determine if they are named in this system of records or to gain access to records maintained in this system must submit their request in writing to Office of the Executive Secretary, FOIA/PA Unit, FDIC, 550 17th Street, NW., Washington, DC 20429. Individuals requesting their own records must provide their name, address and a notarized statement attesting to their identity.

Note: This system contains records that are exempt under 5 U.S.C. 552a (j)(2), (k)(2) and (k)(5). See the section of this notice titled “Systems exempted from certain provisions of the Act” below.

Records access procedure:

See “Notification procedure” above.

Contesting record procedure:

See “Notification procedure” above and the section of this notice titled “Systems exempted from certain provisions of the act.” Individuals wishing to contest or amend information maintained in this system should specify the information being contested, the reasons for contesting it, and the proposed amendment to such information.

Record source categories:

Current and former employees of the FDIC, other government employees, private individuals, vendors, contractors, subcontractors, witnesses and informants.

Exemptions claimed for the system:

This system of records, to the extent that it consists of information compiled for the purpose of criminal investigations, has been exempted from the requirements of subsections (c)(3) and (4); (d); (e)(1), (2) and (3); (e)(4)(G) and (H); (e)(5); (e)(8); (f); (g); (h); and (i) of the Privacy Act pursuant to 5 U.S.C. 552a (j)(2). In addition, this system of records, to the extent that it consists of other investigatory material compiled for law enforcement purposes has been exempted from the requirements of subsections (c)(3); (d); (e)(1); (e)(4)(G) and (H); (f); (g); (h); and (i) of the Privacy Act pursuant to 5 U.S.C. 552a (k)(2). Finally, this system of records, to the extent that it consists of investigatory material compiled for the purpose of determining suitability, eligibility, or qualifications for Federal civilian employment or Federal contracts, the release of which would reveal the identity of a source who furnished information to the FDIC on a confidential basis, has been exempted from the requirements of subsection (c)(3) and (d) of the Privacy Act pursuant to 5 U.S.C. 552a (k)(5).

30-64-0011

System name:

Corporate Recruitment Tracking Records.

System location:

Personnel Services Branch, Division of Administration, FDIC, 550 17th Street, NW., Washington, DC 20429.

Categories of individuals covered by the system:

Individuals filing applications for employment with the FDIC in response to advertised position vacancy announcements.

Categories of records in the system:

Position vacancy announcement information such as position title, series and grade level(s), office and duty location, opening and closing date of the announcement, and dates of referral and return of lists of qualified candidates; applicant personal data such as name, address, social security number, date of birth, sex, veterans' preference and federal competitive status; and applicant qualification and processing information such as qualifications, grade level eligibility, reason for ineligibility, referral status, and dates of notification.

Authority for maintenance of the system:

Sec. 9 of the Federal Deposit Insurance Act (12 U.S.C. 1819); 5 U.S.C. 1104.

Purpose(s):

The records are collected and maintained to monitor and track individuals filing employment applications with the FDIC and to assess recruiting goals and objectives.

Routine uses of records maintained in the system, including categories of users and purposes of such uses:

Information in this system of records may be disclosed:

(1) To the U.S. Office of Personnel Management, the Merit Systems Protection Board, the Office of Government Ethics, the Office of Special Counsel, the Federal Labor Relations Authority or its General Counsel, the Equal Employment Opportunity Commission, to the extent disclosure is determined to be relevant and necessary to carry out the government-wide personnel management, investigatory, adjudicatory, and appellate functions within their respective jurisdictions;

(2) To a congressional office in response to a written inquiry made by a congressional office at the request of the individual to whom the record pertains;

(3) To the appropriate Federal, State or local agency or responsible authority, such information that is necessary and pertinent for investigating or prosecuting a violation of, or for enforcing or implementing a statute, rule, regulation, or order, when the information indicates a violation or potential violation of law, whether civil, criminal, or regulatory in nature, and whether arising by general statute or particular program statute, or by regulation, rule or order issued pursuant thereto;

(4) To a court, magistrate, or administrative tribunal in the course of presenting evidence, including disclosures to counsel or witnesses in the course of civil discovery, litigation, or settlement negotiations or in connection with criminal proceedings, when the FDIC is a party to the proceeding or has a significant interest in the proceeding and the information is determined to be relevant and necessary; and

(5) To a consultant, person or entity who contracts or subcontracts with the FDIC, to the extent necessary for the performance of the contract or subcontract. The recipient of the records shall be required to comply with the requirements of the Privacy Act of 1974, as amended (5 U.S.C. 552a).

Policies and practices for storing, retrieving, accessing, retaining, and disposing of records in the system:

Storage:

Records are stored in electronic media.

Retrievability:

Indexed and retrieved by name and social security number of individual applicant.

Safeguards:

Electronic files are password protected and accessible only by authorized personnel. Network servers are located in a locked room with physical access limited to only authorized personnel.

Retention and disposal:

Information is maintained for two years and, if no longer needed, deleted.

System manager(s) and address:

Assistant Director, Information Systems and Services Section, Personnel Service Branch, Division of Administration, FDIC, 550 17th Street, NW., Washington, DC 20429.

Notification procedure:

Individuals wishing to determine if they are named in this system of records or gain access to records maintained in this system must submit their request in writing to the Office of the Executive Secretary, FOIA/PA Unit, FDIC, 550 17th Street, NW., Washington, DC 20429. Individuals requesting their own records must provide their name, address and a notarized statement attesting to their identity.

Record access procedures:

See “Notification procedure” above.

Contesting record procedures:

See “Notification procedure” above. Individuals wishing to contest or amend information maintained in this system should specify the information being contested, the reasons for contesting it, and the proposed amendment to such information.

Record source categories:

Information originates from position vacancy announcements, applications for employment submitted by individuals, and applicant qualification and processing system.

Exemptions claimed for the system:

None.

30-64-0012

System name:

Financial Information Management Records.

System location:

Division of Finance, FDIC, 550 17th Street, NW., Washington, DC 20429. Records concerning garnishments, attachments, wage assignments and related records concerning FDIC employees are located with the General Counsel, Legal Division, FDIC, 550 17th Street NW., Washington, DC 20429.

Categories of individuals covered by the system:

Current and former employees, current and former vendors and contractors providing goods and/or services to the FDIC, and current and former FDIC customers.

Note: Only records reflecting personal information are subject to the Privacy Act. This system also contains records concerning failed bank receiverships, corporations, other business entities, and organizations whose records are not subject to the Privacy Act.

Categories of records in the system:

This system contains (a) employee payroll and disbursement-related records; (b) contractor and vendor invoices and other accounts payable records; and (c) customer records related to accounts receivables. The payroll and/or disbursement records include employees' mailing addresses and home addresses; rate and amount of pay; hours worked; leave accrued and leave balances; tax exemption; tax deductions for employee supplemental payments; and Corporate payments for taxes, life insurance, health insurance, and retirement funds. Records relating to employee claims for reimbursement of official travel expenses include travel authorizations, advances, vouchers showing amounts claimed, exceptions taken as a result of audit, advance balances applied, amounts paid, and travel savings awards program payments. Other records maintained on employees include reimbursement claims for relocation expenses consisting of authorizations, advances, vouchers of amounts claimed and amounts paid; reimbursement for educational expenses or professional membership dues and licensing fees; awards and buyout payments; child care and Life Cycle reimbursements; advances or other funds owed to the FDIC; and garnishments, attachments, wage assignments or related records. Records on individuals who are not employees of the FDIC consist of all documents relating to the purchase of goods and/or services from those individuals including contractual documents and amounts paid as well as customer information necessary for the collection of accounts receivable. The records may also include general ledger and detailed trial balances and supporting data.

Authority for maintenance of the system:

Secs. 9 and 10(a) of the Federal Deposit Insurance Act (12 U.S.C. 1819 and 1820(a)).

Purpose(s):

The records are maintained for the FDIC and the failed bank receiverships managed by the FDIC. The records are used to manage and account for financial transactions of the FDIC. The records and associated databases and subsystems provide a data source for the production of reports and documentation for internal and external management reporting associated with the financial operations of the FDIC.

Routine uses of records maintained in the system, including categories of users and the purposes of such uses:

Information in the system may be disclosed:

(1) To auditors employed by the General Accounting Office;

(2) To the appropriate Federal, State or local agency or authority responsible for investigating or prosecuting a violation of, or for enforcing or implementing a statute, rule, regulation or order, when the information indicates a violation or potential violation of law, whether civil, criminal or regulatory in nature, and whether arising by general statute or particular program statute or by regulation, rule or order issued pursuant thereto;

(3) To a court, magistrate, or administrative tribunal in the course of presenting evidence, including disclosures to counsel or witnesses in the course of civil discovery, litigation, or settlement negotiations or in connection with criminal proceedings, when the FDIC is a party to the proceeding or has a significant interest in the proceeding and the information is determined to be relevant and necessary;

(4) To the United States Office of Personnel Management, the Merit Systems Protection Board, the Office of Special Counsel, the Federal Labor Relations Authority, an arbitrator, and the Equal Employment Opportunity Commission, to the extent disclosure is necessary to carry out the government-wide personnel management, investigatory, adjudicate and appellate functions within their respective jurisdictions;

(5) To a congressional office in response to an inquiry made by the congressional office at the request of the individual to whom the record pertains;

(6) To Federal, State, and City income tax authorities, including the Internal Revenue Service and the Social Security Administration, and to other recipients, as authorized by the employee, including the United States Treasury Department, savings institutions, insurance carriers, and charity funds;

(7) By the FDIC Office of Inspector General to vendors, carriers, or other appropriate third parties for the purpose of verification, confirmation, or substantiation during the performance of audits or investigations;

(8) To a consultant, person or entity who contracts or subcontracts with the FDIC, to the extent necessary for the performance of the contract or subcontract. The recipient of the records shall be required to comply with the requirements of the Privacy Act of 1974, as amended (5 U.S.C. 552a); and

(9) To the Department of the Treasury, federal debt collection centers, other appropriate federal agencies, and private collection contractors or other third parties authorized by law, for the purpose of collecting or assisting in the collection of delinquent debts owed to the FDIC. Disclosure of information contained in these records will be limited to the individual's name, Social Security number, and other information necessary to establish the identity of the individual, and the existence, validity, amount, status and history of the debt.

Disclosures to consumer reporting agencies:

Disclosures may be made from this system, pursuant to subsection (b)(12) of the Privacy Act, to consumer reporting agencies in accordance with 31 U.S.C. 3711(e). (The term “consumer reporting agency” is defined by 31 U.S.C. 3701(a)(3) and 15 U.S.C. 1681a(f).) Disclosure of information contained in these records will be limited to the individual's name, Social Security number, and other information necessary to establish the identity of the individual, and the existence, validity, amount, status and history of the debt.

Policies and practices for storing, retrieving, accessing, retaining, and disposing of records in the system;

Storage:

Records are stored in electronic media and paper format/record cards in individual file folders.

Retrievability:

Electronic media are indexed and retrievable by social security number or specialized identifying number; paper format/record cards are indexed and retrieved by name.

Safeguards:

Electronic files are password protected and accessible only by authorized personnel. Paper format/record cards are maintained in lockable metal file cabinets.

Retention and disposal:

Financial receipt and payment, trial balance, payroll and employee supplemental payment, and official travel expense and reimbursement records are retained by the FDIC for ten years in electronic format and then transferred to the Federal Records Center or destroyed. Source documents for employee financial records and authorization vouchers are retained for the period of use and up to six additional years, after which they are destroyed. Records on individuals who are employees of the FDIC authorized to approve payment authorization vouchers or regulatory and supervision expenditures are maintained for a period of three years or until the next audit by the General Accounting Office.

System manager(s) and address:

Director, Division of Finance, FDIC, 550 17th Street, NW., Washington, DC 20429. For records about FDIC employees concerning garnishments, attachments, wage assignments and related records, the system manager is the General Counsel, Legal Division, FDIC, 550 17th Street, NW., Washington, DC 20429.

Notification Procedure:

Individuals wishing to determine if they are named in this system of records or seeking access to records maintained in this system must submit their request in writing to the Office of the Executive Secretary, FDIC, FOIA/PA Unit, 550 17th Street, NW., Washington, DC 20429. The request must contain the individual's name, social security number, a notarized statement attesting to their identity, and, to the extent relevant, the duty station, division and approximate dates of employment.

Records access procedures:

See “Notification procedure” above.

Contesting records procedures:

See “Notification procedure” above. Individuals wishing to contest or amend information contained in this system should specify the information being contested, the reasons for contesting it, and the proposed amendment to such information.

Record source categories:

The information is obtained from the individual upon whom the record is maintained; other government agencies, contractors, documents submitted to or received from another FDIC office maintaining the records in the performance of their duties. Where an employee is subject to a tax lien, a bankruptcy, an attachment, or a wage garnishment, information also is obtained from the appropriate taxing or judicial authority.

Exemptions claimed for the system:

None.

30-64-0013

System name:

Insured Bank Liquidation Records.

System location:

Division of Resolutions and Receiverships, FDIC, 550 17th Street, NW., Washington, DC 20429; and Field Operations Branch, Division of Resolutions and Receiverships, FDIC, 1910 Pacific Avenue, Dallas, Texas 75201.

Categories of individuals covered by the system:

Individuals who were obligors or obligees of FDIC-insured financial institutions for which the FDIC was appointed receiver or liquidator or FDIC-insured financial institutions that were provided open-bank assistance by the FDIC and the FDIC is acting as liquidator, receiver or conservator of certain of the financial institution's assets.

Note: Only records reflecting personal information are subject to the Privacy Act. This system also contains records concerning failed bank receiverships, corporations, other business entities, and organizations whose records are not subject to the Privacy Act.

Categories of records in the system:

This system contains the individual's files held by the closed financial institution or assisted financial institution, which files may include the loan or contractual agreement and related documents and correspondence. It also contains FDIC asset files, including judgments obtained, restitution orders and loan deficiencies arising from the liquidation of the obligor's loan asset(s) and associated collateral, if any; information relating to the obligor's financial condition such as financial statements, income tax returns, asset or collateral verifications or searches, appraisals, and potential sources of repayment. FDIC asset files also include intra- or inter-agency memoranda, notes relating to the liquidation of the loan obligation or asset, correspondence and any other documents related to the liquidation of the loan obligation or asset. FDIC's receivership claims files may include all information related to claims filed with the receivership estate by a failed financial institution's landlords, creditors, service providers or other obligees or claimants.

Note: Records held by the FDIC as receiver are a part of this system only to the extent that the state law governing the receivership is not inconsistent or does not otherwise establish specific requirements.

Authority for maintenance of the system:

Secs. 9, 11, and 13 of the Federal Deposit Insurance Act (12 U.S.C. 1819, 1821, and 1823) and applicable State laws governing the liquidation of assets and wind-up of the affairs of failed financial institutions.

Purpose(s):

The records are maintained to: (a) Identify and manage loan obligations and assets acquired from failed FDIC-insured financial institutions for which the FDIC was appointed receiver or liquidator or FDIC-insured financial institutions that were provided open-bank assistance by the FDIC; (b) identify, manage and discharge the obligations to creditors, obligees and other claimants of FDIC-insured financial institutions for which the FDIC was appointed receiver or liquidator or FDIC-insured financial institutions that were provided open-bank assistance by the FDIC; and (c) assist with financial and management reporting. The records support the liquidation and receivership functions of the FDIC required by applicable Federal and State statutes.

Routine uses of records maintained in the system, including categories of users and the purposes of such use:

Information in the system may be disclosed, subject to applicable law:

(1) To prospective purchaser(s) of the individual's obligation(s), including judgments and loan deficiencies, for the purpose of informing the prospective purchaser(s) about the nature and quality of the loan obligation(s) to be purchased;

(2) To contractors or entities performing services for the FDIC in connection with the liquidation of an individual's obligation(s), including judgments and loan deficiencies or in connection with the fulfillment of a claim filed with the FDIC as receiver or liquidator. Third party contractors include, but are not limited to, asset marketing contractors; loan servicers; appraisers; environmental contractors; attorneys retained by the FDIC; collection agencies; and auditing or accounting firms retained to assist in an audit or investigation of FDIC's liquidation activities;

(3) To participants in the loan obligation in order to fulfill any contractual or incidental responsibilities in connection with the loan participation agreement;

(4) To Federal or State agencies or to financial institutions where information is relevant to an application or request by the individual for a loan, grant, financial benefit, or other entitlement;

(5) To Federal or State agencies, such as the Internal Revenue Service or State taxation authorities, in the performance of their governmental duties, such as obtaining information regarding income, including the reporting of income resulting from a compromise or write-off of a loan obligation;

(6) To apprise courts of competent jurisdiction supervising the FDIC's liquidation or receivership functions of information required by statute to be disclosed to the court and necessary to obtain approvals from the court for the disposal of assets and the disposition of claims and other related issues;

(7) To Federal or State bank examiners for the purposes of examining borrowing relationships in operating financial institutions that may be related to an obligation of an individual covered by this system;

(8) To a court, magistrate, or administrative tribunal in the course of presenting evidence, including disclosures to counsel or witnesses in the course of civil discovery, litigation, or settlement negotiations or in connection with criminal proceedings, when the FDIC is a party to the proceeding or has a significant interest in the proceeding, of only such information that is determined to be relevant and necessary;

(9) To the appropriate Federal, State, or local agency or responsible authority, such information that is necessary and pertinent for investigating or prosecuting a violation of or for enforcing or implementing a statute, rule, regulation, or order, when the information by itself or together with other information indicates a violation or potential violation of law, whether civil, criminal, or regulatory in nature, and whether arising by general statute or particular program statute, or by regulation, rule, or order issued pursuant thereto;

(10) To a congressional office in response to a written inquiry made by the congressional office at the request of the individual to whom the record pertains; and

(11) To the individual, the individual's counsel or other representatives, insurance carrier(s) or underwriters of bankers' blanket bonds or financial institutions bonds for failed or assisted FDIC-insured financial institutions in conjunction with claims made by the FDIC or litigation instituted by the FDIC or others on behalf of the FDIC against former officers, directors, accountants, lawyers, consultants, appraisers, or underwriters of bankers blanket bonds or financial institutions bonds of a failed or assisted FDIC-insured financial institution.

Policies and practices for storing, retrieving, accessing, retaining, and disposing of records in the system:

Storage:

Records are stored in electronic media and in paper format within individual file folders.

Retrievability:

Records are indexed by financial institution number, name of failed or assisted insured institution, and by name of individual.

Safeguards:

Electronic files are password protected and accessible only by authorized personnel. Paper format records maintained in individual file folders are stored in lockable file cabinets and/or in secured vaults or warehouses and are accessible only by authorized personnel.

Retention and disposal:

Credit/loan files or files concerning the obligees of the failed or assisted financial institution are maintained until the receivership claim, loan obligation, judgment, loan deficiency or other asset or liability is sold or otherwise disposed of, or for the period of time provided under applicable Federal or State laws pursuant to which the FDIC liquidates the assets, discharges the liabilities or processes the claims. FDIC asset files and information maintained in magnetic media are retained as long as needed.

System manager(s) and address:

Division of Resolutions and Receiverships, FDIC, 550 17th Street, NW., Washington, DC 20429; and Deputy Director, Field Operations Branch, FDIC, 1910 Pacific Avenue, Dallas, Texas 75201.

Notification procedure:

Individuals wishing to determine if they are named in this system of records or seeking access to records maintained in this system must submit their request in writing to the Office of the Executive Secretary, FOIA/PA Unit, 550 17th Street, NW., Washington, DC 20429. The request must contain the individual's name, address, a notarized statement attesting to their identity, and the name and address of the failed or assisted institution at which the individual had a loan obligation or otherwise transacted business.

Record access procedures:

See “Notification procedure” above.

Contesting record procedures:

See “Notification procedure” above. Individuals wishing to contest or amend information maintained in this system should specify the information being contested, the reasons for contesting it, and the proposed amendment to such information.

Record source categories:

Information is obtained from the individual on whom the record is maintained; appraisers retained by the originating bank or the FDIC; investigative and/or research companies; credit bureaus and/or services; loan servicers; court records; references named by the individual; attorneys or accountants retained by the originating bank or the FDIC; participants in the obligation(s) of the individual; officers and employees of the failed or assisted bank; congressional offices that may initiate an inquiry; and other parties providing services to the FDIC in its capacity as liquidator or receiver.

Exemptions claimed for the system:

None.

30-64-0015

System name:

Unofficial Personnel System (to be revised at a later date).

30-64-0016

System name:

Professional Qualification Records for Municipal Securities Dealers, Municipal Securities Representatives, and U.S. Government Securities Brokers/Dealers.

System location:

Securities, Capital Markets and Trust Branch, Division of Supervision, FDIC, 550 17th Street, NW., Washington, DC 20429.

Categories of individuals covered by the system:

(1) Persons who are or seek to be associated with municipal securities principals or municipal securities representatives which are FDIC-insured, state-chartered banks (including insured state-licensed branches of foreign banks), not members of the Federal Reserve System, or are subsidiaries, departments, or divisions of such banks; (2) persons who are or seek to be persons associated with U.S. Government securities dealers or brokers which are FDIC-insured state-chartered banks, other than members of the Federal Reserve System, or are departments or divisions of such banks.

Categories of records in the system:

The records contain identifying information, detailed educational and employment histories, examination information, disciplinary information, if any, and information concerning the termination of employment of individuals covered by the system. Identifying information includes name, address, date and place of birth, and may include social security number.

Authority for maintenance of the system:

Secs. 15B(c), 15C, and 23 of the Securities Exchange Act of 1934 (15 U.S.C. 78o-4, 78o-5, and 78q and 78w); and section 9 of the Federal Deposit Insurance Act (12 U.S.C. 1819).

Purpose(s):

The records are maintained to comply with the registration requirements of municipal securities dealers, municipal securities representatives, and U.S. Government securities brokers or dealers and associated persons contained in the Securities Exchange Act of 1934 and to support the FDIC's regulatory and supervisory functions.

Routine uses of records maintained in the system, including categories of users and purposes of such use:

Information in the system may be disclosed:

(1) To a court, magistrate, or administrative tribunal in the course of presenting evidence, including disclosures to counsel or witnesses in the courses of civil discovery, litigation, or settlement negotiations or in connection with criminal proceedings, when the FDIC is a party to the proceeding or has a significant interest in the proceeding, of only such information that is determined to be relevant and necessary;

(2) To the appropriate Federal, State, local, or foreign agency or authority or to the appropriate self-regulatory organization, as defined in section 3(a)(26) of the Securities Exchange Act of 1934 (15 U.S.C. 78c (a)(26)), to the extent disclosure is determined to be necessary and pertinent for investigating or prosecuting a violation of or for enforcing or implementing a statute, rule, regulation, or order, when the information by itself or together with additional information indicates a violation or potential violation of law, whether civil, criminal, or regulatory in nature, and whether arising by general statute or particular program statute, or regulation, rule or order issued pursuant thereto;

(3) To a congressional office in response to a written inquiry made by the congressional office at the request of the individual to whom the record pertains;

(4) To assist in any proceeding in which the Federal securities or banking laws are in issue or a proceeding involving the propriety of a disclosure of information contained in this system, in which the FDIC or one of its past or present employees is a party, to the extent that the information is relevant to the proceeding;

(5) To a Federal, State, local, or foreign governmental authority or a self-regulatory organization if necessary in order to obtain information relevant to an FDIC inquiry concerning a person who is or seeks to be associated with a municipal securities dealer as a municipal securities principal or representative or a U.S. Government securities broker or a U.S. Government securities dealer;

(6) To a Federal, State, local, or foreign governmental authority or a self-regulatory organization in connection with the issuance of a license or other benefit to the extent that the information is relevant and necessary;

(7) To a registered dealer, registered broker, registered municipal securities dealer, U.S. Government securities dealer, U.S. Government securities broker, or an insured bank that is a past or present employer of an individual that is the subject of a record, or to which such individual has applied for employment, for purposes of identity verification or for purposes of investigating the qualifications of the subject individual; and

(8) To a consultant, person or entity who contracts or subcontracts with the FDIC, to the extent necessary for the performance of the contract or subcontract. The recipient of the records shall be required to comply with the requirements of the Privacy Act of 1974, as amended (5 U.S.C. 552a).

Policies and practices for storing, retrieving, accessing, retaining, and disposing of records in the system:

Storage:

Records are stored in electronic media and in paper format within individual file folders.

Retrievability:

Indexed by name, social security number, and dealer registration number or FDIC bank certificate number.

Safeguards:

Electronic files are password protected and accessible only by authorized personnel. Paper format records are stored in file folders in lockable metal file cabinets accessible only by authorized personnel.

Retention and disposal:

Permanent retention.

System manager(s) and address:

Senior Financial Analyst, Securities, Capital Markets and Trust Branch, Division of Supervision, FDIC, 550 17th Street, NW., Washington, DC 20429.

Notification procedure:

Individuals wishing to determine if they are named in this system of records or seeking access to records maintained in this system must submit their request in writing to the Office of the Executive Secretary, FOIA/PA Unit, FDIC, 550 17th Street, NW., Washington, DC 20429. Individuals requesting their own records must provide their name, the date and place of their birth, and a notarized statement attesting to their identity.

Record access procedures:

See “Notification procedure” above.

Contesting record procedures:

See “Notification procedure” above. Individuals wishing to contest or amend information maintained in this system should specify the information being contested, the reasons for contesting it, and the proposed amendment to such information.

Record source categories:

Individuals on whom the records are maintained, municipal securities dealers and U.S. Government securities dealers and brokers (as such dealers are described in “Categories of individuals covered by the system” above), and Federal, State, local, and foreign governmental authorities and self-regulatory organizations or agencies which regulate the securities industry.

Exemptions claimed for the system:

None.

30-64-0017

System name:

Employee Medical and Health Assessment Records.

System location:

Health Unit, Acquisition and Corporate Services Branch, Division of Administration, FDIC, located at the following addresses: 550 17th Street, NW., Washington, DC 20429, and 3501 North Fairfax Drive, Arlington, Virginia 22226; and Health Units located in FDIC regional offices. (See Appendix A for a list of the FDIC regional offices and their addresses.)

Categories of individuals covered by the system:

All current and former FDIC employees who participate in health screening programs administered by contractor personnel retained by the FDIC and individuals who seek treatment, medical accommodations or information at an FDIC Health Unit.

Categories of records in the system:

Medical records of the employee, including name, age, height, weight, history of certain medical conditions, health screening records; dates of visits to the FDIC Health Unit, diagnoses, and treatments administered; ergonomic reviews and assessments; and the name and telephone number of the person to contact in the event of a medical emergency involving the employee.

Note: In addition to the FDIC system of records, the United States Office of Personnel Management maintains its own government-wide system of records (known as OPM/GOVT-10).

Authority for maintenance of the system:

Sec. 9 of the Federal Deposit Insurance Act (12 U.S.C. § 1819).

Purpose(s):

The records are collected and maintained to identify potential health issues and concerns of an individual and to identify and collect information with respect to medical conditions reported by an individual to the FDIC Health Unit and to identify necessary contacts in the event of a medical emergency involving the covered individual.

Routine uses of records maintained in the system, including categories of users and the purposes of such uses:

Note: The records are disclosed only to a very limited number of FDIC officials, generally only to a medical review or management official to the extent necessary for a determination concerning a medical issue or condition affecting the individual.

Information in the system may be disclosed:

(1) To the appropriate Federal, State or local agency when necessary to adjudicate a claim (filed by or on behalf of the individual) under a retirement, insurance or health benefit program;

(2) To a Federal, State, or local agency to the extent necessary to comply with laws governing reporting of communicable disease;

(3) To a court, magistrate, or administrative tribunal in the course of presenting evidence, including disclosures to counsel or witnesses in the course of civil discovery, litigation, or settlement negotiations or in connection with criminal proceedings when the FDIC is a party to the proceeding or has a significant interest in the proceeding, and only of such information that is determined to be relevant and necessary and it has been determined that the disclosure is compatible with the purpose for which the records were collected;

(4) To the appropriate Federal, State or local agency or responsible authority, such information that is necessary and pertinent for investigating, prosecuting, enforcing, or implementing a statute, rule, regulation, or order, when the information by itself or together with additional information, indicates a violation or potential violation of civil or criminal law or regulation;

(5) To a congressional office in response to a written inquiry made by the congressional office at the request of the individual to whom the record pertains;

(6) To the Merit Systems Protection Board or the Office of the Special Counsel, the Federal Labor Relations Authority and its General Counsel, the U.S. Office of Personnel Management, the Equal Employment Opportunity Commission, arbitrators, hearing examiners and appointed representatives of an individual to the extent necessary to carry out their authorized duties or functions;

(7) To health or life insurance carriers contracting with the FDIC to provide life insurance or to provide health benefits plan, such information necessary to verify eligibility for payment of a claim for life or health benefits;

(8) To a Health Unit contractor, including contract nurses, retained for the purpose of performing any function associated with the operation of the Health Unit; and

(9) To the person designated on the appropriate form as the individual to contact in the event of a medical emergency of the employee.

Policies and practices for storing, retrieving, accessing, retaining, and disposing of records in the system:

Storage:

The records are stored in electronic media and in paper format within individual file folders.

Retrievability:

Records are indexed and retrieved by name.

Safeguards:

Electronic files are password protected and accessible only by authorized personnel. Paper format records are stored in lockable metal file cabinets. Access is limited to authorized employees, authorized employees of the contractor or contract nurses responsible for servicing the records in the performance of their duties.

Retention and disposal:

Records are kept for the duration of the employee's employment with FDIC. Upon termination of employment, the records are maintained for six years and then destroyed.

System manager(s) and address:

Health, Safety and Environmental Program Manager, Acquisition and Corporate Services Branch, Division of Administration, FDIC, 550 17th Street, NW., Washington, DC 20429.

Notification procedure:

Individuals wishing to determine if they are named in this system of records or seeking access to records maintained in this system must submit their requests in writing to the Office of the Executive Secretary, FOIA/PA Unit, FDIC, 550 17th Street, NW., Washington, DC 20429. All requests must contain the individual's name and identify the office where the individual was employed. Individuals must also provide a notarized statement attesting to their identity.

Record access procedures:

See “Notification procedure” above.

Contesting record procedures:

See “Notification procedure” above. Individuals wishing to contest or amend information maintained in this system should specify the information being contested, the reasons for contesting it, and the proposed amendment to such information.

Record source categories:

The records are compiled by the employee and contractor personnel during the course of a visit to the Health Unit for treatment. Records are created also as a result of the individual's participation in a health screening program, or if the individual requests an ergonomic assessment or health or medical accommodation. The employee supplies the information contained in the emergency contact sheet.

Exemptions claimed for the system:

None.

30-64-0018

System name:

Grievance Records.

System location:

Personnel Services Branch, Division of Administration, FDIC, 550 17th Street, NW., Washington, DC 20429. Records at the regional level generated through grievance procedures negotiated with recognized labor organizations are located in the FDIC regional office where originated (See Appendix A for a list of the FDIC regional offices and their addresses). For non-headquarters employees, duplicate copies may be maintained by the Personnel Services Branch, Division of Administration, Washington, DC, for the purpose of coordinating grievance and arbitration proceedings.

Categories of individuals covered by the system:

Current or former FDIC employees who have submitted grievances in accordance with part 771 of the United States Office of Personnel Management's regulations (5 CFR part 771) or a negotiated grievance procedure.

Categories of records in the system:

The system contains records relating to grievances filed by FDIC employees under part 771 of the United States Office of Personnel Management's regulations, or under 5 U.S.C. 7121. Case files contain documents related to the grievance including statements of witnesses, reports of interviews and hearings, examiner's findings and recommendations, a copy of the final decision, and related correspondence and exhibits. This system includes files and records of internal grievance procedures that FDIC may establish through negotiations with recognized labor organizations.

Authority for maintenance of the system:

5 U.S.C. 7121; 5 CFR part 771; sec. 9 of the Federal Deposit Insurance Act, 12 U.S.C. 1819.

Purpose(s):

The information contained in this system is used to make determinations and document decisions made on filed grievances and settle matters of dissatisfaction or concern of covered individuals. Information from this system may be used for preparing statistical summary or management reports.

Routine uses of records maintained in the system, including categories of users and the purposes of such uses:

Information in the system may be disclosed:

(1) To the appropriate Federal, State, local agency or responsible authority, such information that is necessary and pertinent for investigating, prosecuting, enforcing or implementing a statute, rule, regulation, or order, when the information indicates a violation or potential violation of law, whether civil, criminal, or regulatory in nature, and whether arising by general statute or particular program statute, or by regulation, rule or order issued pursuant thereto;

(2) To any source during the course of an investigation only such information as determined to be necessary and pertinent to process a grievance, to the extent necessary to identify the individual, inform the source of the purpose(s) of the request and identify the type of information requested;

(3) To a Federal agency, in response to its request, in connection with the hiring or retention of an employee, the issuance of a security clearance, the conducting of a security or suitability investigation of an individual, the classifying of jobs, the letting of a contract or the issuance of a license, grant, or other benefit by the requesting agency to the extent that the information is relevant and necessary to the requesting agency's decision on the matter;

(4) To a congressional office in response to an inquiry made by the congressional office at the request of the individual to whom the record pertains;

(5) To the United States Office of Personnel Management in the production of summary descriptive statistics and analytical studies in support of the function for which the records are collected and maintained, or for related work force studies (while published statistics and studies do not contain individual identifiers, in some instances the selection of elements of data included in the study may be structured in such a way as to make the data individually identifiable by inference);

(6) To officials of the Merit Systems Protection Board, the Office of the Special Counsel, the Federal Labor Relations Authority, the Equal Employment Opportunity Commission, the Office of Personnel Management, or an arbitrator, when requested in performance of their authorized duties and functions, but only to the extent that the information disclosed is determined to be necessary and relevant to the requesting agency's decision on the matter;

(7) To a court, magistrate, alternative dispute resolution mediator or administrative tribunal in the course of presenting evidence, including disclosures to counsel or witnesses in the course of civil discovery, litigation, alternative dispute resolution, or settlement negotiations or in connection with criminal proceedings, when the FDIC is a party to the proceeding or has a significant interest in the proceeding and the information is determined to be relevant and necessary;

(8) To officials of labor organizations recognized under the Civil Service Reform Act when relevant and necessary to their duties of exclusive representation concerning personnel policies, practices, and matters affecting work conditions; and

(9) To a consultant, person or entity who contracts or subcontracts with the FDIC, to the extent necessary for the performance of the contract or subcontract. The recipient of the records shall be required to comply with the requirements of the Privacy Act of 1974, as amended (5 U.S.C. 552a).

Policies and practices for storing, retrieving, accessing, retaining, and disposing of records in the system:

Storage:

Records are stored in paper format within individual file folders or electronically.

Retrievability:

Records are indexed and retrieved by name.

Safeguards:

Electronic files are password protected and accessible only by authorized personnel. Records in paper format are maintained in lockable metal filing cabinets accessible only by authorized personnel.

Retention and disposal:

The records are disposed of three years after closing of the case.

System manager(s) and address:

Director of Personnel, Personnel Services Branch, Division of Administration, FDIC, 550 17th Street, NW., Washington, DC 20429. The appropriate FDIC regional director for records maintained in FDIC regional offices (see Appendix A for a list of the FDIC regional offices and their addresses).

Notification Procedure:

Individuals wishing to determine if they are named in this system of records or seeking access to their records maintained in this system must submit their requests in writing to the Executive Secretary, FOIA/PA Unit, FDIC, 550 17th Street, NW., Washington, DC 20429. Individuals requesting their own records must provide their name, address, and a notarized statement attesting to their identity.

Record Access Procedures:

See “Notification procedure” above.

Contesting record procedures:

See “Notification Procedure” above. Individuals wishing to contest or amend information maintained in this system should specify the information being contested, the reasons for contesting it, and the proposed amendment to such information.

Record source categories:

Information in this system is provided: (1) By the individual on whom the record is maintained; (2) by testimony of witnesses; (3) by agency officials; and (4) from related correspondence from organizations or persons.

Exemptions claimed for the system:

None.

30-64-0019

System name:

Potential Bidders List.

System location:

Division of Resolutions and Receiverships, FDIC, 550 17th Street, NW., Washington, DC 20429; and Field Operations Branch, Division of Resolutions and Receiverships, FDIC, 1910 Pacific Avenue, Dallas, Texas 75201.

Categories of individuals covered by the system:

Individuals who have purchased or submitted written notice of an interest in purchasing loans, owned real estate or other assets from the FDIC.

Categories of records in the system:

Contains the individual's name, address, telephone number and electronic mail address, if available; information as to the kind or category and general geographic location of loans or owned real estate that the individual may be interested in purchasing; and information relating to whether any bids have been submitted on prior loan sales.

Authority for maintenance of the system:

Secs. 9, 11 and 13 of the Federal Deposit Insurance Act (12 U.S.C. 1819, 1821 and 1823).

Purpose(s):

The system collects, identifies and maintains information about potential purchasers of assets (primarily loans and owned real estate) from the FDIC. The information is utilized by the FDIC in the marketing of assets, to identify potential purchasers and to solicit bids for assets. The information in this system is used to support the FDIC's liquidation/receivership functions.

Routine uses of records maintained in the system, including categories of users and the purposes of such uses:

Information in the system may be disclosed, subject to applicable law:

(1) To other Federal or State agencies and to contractors to assist in the marketing and sale of loans and real estate held by the FDIC;

(2) To the appropriate Federal, State or local agency or responsible authority, to the extent that disclosure is necessary and pertinent for investigating or prosecuting a violation of or for enforcing or implementing a statute, rule, regulation or order, when the information indicates a violation or potential violation of law, whether civil, criminal or regulatory in nature, and whether arising by general statute or particular program statute or by regulation, rule or order issued pursuant thereto;

(3) To a court, magistrate, or administrative tribunal in the course of presenting evidence, including disclosures to counsel or witnesses in the course of civil discovery, litigation, or settlement negotiations or in connection with criminal law proceedings, when the FDIC is a party to the proceeding or has a significant interest in the proceeding and the information is determined to be relevant and necessary; and

(4) To a congressional office in response to a written inquiry made by the congressional office at the request of the individual to whom the record pertains.

Policies and practices for storing, retrieving, accessing, retaining and disposing of records in the system:

Storage:

Records are stored in electronic media and paper format in file folders.

Retrievability:

Electronic media and paper format are indexed and retrieved by name of prospective purchaser or unique identification number assigned to the prospective purchaser.

Safeguards:

Electronic files are password protected and accessible only by authorized personnel. Hard copy printouts are maintained in lockable metal file cabinets or offices.

Retention and disposal:

Records are periodically updated to reflect changes and maintained as long as needed. Obsolete records are deleted or destroyed after 15 months.

System manager(s) and address:

Director, Division of Resolutions and Receiverships, FDIC, 550 17th Street, NW., Washington DC 20429.

Notification procedure:

Individuals wishing to determine if they are named in this system of records or seeking access to records maintained in this system must submit their request in writing to the Office of the Executive Secretary, FOIA/PA Unit, FDIC, 550 17th Street, NW., Washington DC 20429. Individuals requesting their own records must provide their name, address and a notarized statement attesting to their identity.

Record access procedures:

See “Notification procedure” above.

Contesting record procedures:

See “Notification procedure” above. Individuals wishing to contest or amend information maintained in this system should specify the information being contested, the reasons for contesting it, and the proposed amendment to such information.

Record source categories:

Information is obtained from the individual about whom the record is maintained.

Exemptions claimed for the system:

None.

30-64-0020

System name:

Telephone Call Detail Records.

System location:

Division of Information Resources Management, FDIC, 3501 N. Fairfax Dr., Arlington, VA 22226.

Categories of individuals covered by the system:

Individuals assigned telephone numbers and authorization codes by the FDIC, including current and former FDIC employees and contractor personnel, who make local and long distance telephone calls and individuals who receive telephone calls placed from or charged to FDIC telephones.

Categories of records in the system:

Records, including telephone number, location, dates and duration of telephone call, relating to use of FDIC telephones to place or receive long distance and local calls; records of any charges billed to FDIC telephones; records indicating assignment of telephone numbers to individuals covered by the system; and the results of administrative inquiries to determine responsibility for the placement of specific local or long distance calls.

Authority for maintenance of the system:

Sec. 9 of the Federal Deposit Insurance Act (12 U.S.C. 1819).

Purpose(s):

The records in this system are maintained to identify and make a record of all telephone calls placed to or from FDIC telephones and enable the FDIC to analyze call detail information for verifying call usage; to determine responsibility for placement of specific long distance calls; and for detecting possible abuse of the FDIC provided long distance telephone network.

Routine uses of records maintained in the system, including categories of users and the purposes of such uses:

Information in the system may be disclosed:

(1) To a congressional office in response to an inquiry made by the congressional office at the request of the individual to whom the record pertains;

(2) To a court, magistrate, or administrative tribunal in the course of presenting evidence, including disclosures to counsel or witnesses in the course of civil discovery, litigation, or settlement negotiations or in connection with criminal proceedings, when the FDIC is a party to the proceeding or has a significant interest in the proceeding and the information is determined to be relevant and necessary;

(3) To the appropriate Federal, State, or local agency or responsible authority such information that is necessary and pertinent for investigating or prosecuting a violation of or for enforcing or implementing a statute, rule, regulation, or order, when the information indicates a violation or potential violation of law, whether civil, criminal, or regulatory in nature, and whether arising by general statute, or by particular program statute, or by regulation, rule, or order issued pursuant thereto;

(4) To current and former FDIC employees and other individuals currently or formerly provided telephone services by the FDIC to determine their individual responsibility for telephone calls;

(5) To respond to a Federal agency's request made in connection with the hiring or retention of an employee, the letting of a contract or issuance of a grant, license, or other benefit by the requesting agency, but only to the extent that the information disclosed is relevant and necessary to the requesting agency's decision on the matter;

(6) To a telecommunications company providing telecommunications support to permit servicing the account;

(7) To a consultant, person or entity who contracts or subcontracts with the FDIC, to the extent necessary for the performance of the contract or subcontract. The recipient of the records shall be required to comply with the requirements of the Privacy Act of 1974, as amended (5 U.S.C. 552a); and

(8) To the Department of the Treasury, federal debt collection centers, other appropriate federal agencies, and private collection contractors or other third parties authorized by law, for the purpose of collecting or assisting in the collection of delinquent debts owed to the FDIC. Disclosure of information contained in these records will be limited to the individual's name, Social Security number, and other information necessary to establish the identity of the individual, and the existence, validity, amount, status and history of the debt.

Disclosures to consumer reporting agencies:

Disclosures may be made from this system, pursuant to subsection (b)(12) of the Privacy Act, to consumer reporting agencies in accordance with 31 U.S.C. 3711(e). (The term “consumer reporting agency” is defined by 31 U.S.C. 3701(a)(3) and 15 U.S.C. 1681a(f).) Disclosure of information contained in these records will be limited to the individual's name, Social Security number, and other information necessary to establish the identity of the individual, and the existence, validity, amount, status and history of the debt.

Policies and practices for storing, retrieving, accessing, retaining, and disposing of records in the system:

Storage:

Records are stored in electronic media.

Retrievability:

Records are indexed and retrieved by telephone number and office location.

Safeguards:

Electronic files are password protected and accessible only by authorized personnel.

Retention and disposal:

Records are destroyed after the close of the fiscal year in which they are audited or after three years from the date the record was created, whichever occurs first.

System manager(s) and address:

Associate Director, Division of Information Resources Management, 3501 N. Fairfax Dr., Arlington, Virginia 22226.

Notification procedure:

Individuals wishing to determine if they are named in this system of records or seeking access to records maintained in this system must submit their requests in writing to the Office of the Executive Secretary, FOIA/PA Unit, FDIC, 550 17th Street, NW., Washington, DC 20429. The request must contain the individual's name, office location, the telephone number assigned to the individual by the FDIC, and a notarized statement attesting to their identity.

Record access procedures:

See “Notification procedure” above.

Contesting record procedures:

See “Notification procedure” above. Individuals wishing to contest or amend information maintained in this system should specify the information being contested, the reasons for contesting it, and the proposed amendment to such information.

Record source categories:

Telephone assignment records; call detail listings; results of administrative inquiries relating to assignment of responsibility for placement of specific long distance and local calls.

Exemptions claimed for the system:

None.

30-64-0021

System name:

Fitness Center Records.

System location:

Fitness Center, Acquisition and Corporate Services Branch, Division of Administration, FDIC, 550 17th Street, NW., Washington, DC 20429.

Categories of individuals covered by the system:

FDIC employees who apply for membership and participate in the Fitness Center.

Categories of records in the system:

Principally contains the individual's name, gender, age; fitness assessment results; identification of certain medical conditions; and the name and phone number of the individual's personal physician and emergency contact.

Authority for maintenance of the system:

Sec. 9 of the Federal Deposit Insurance Act (12 U.S.C. 1819).

Purpose(s):

The records are collected and maintained to control access to the fitness center; to enable the Fitness Center contractor to identify any potential health issues or concerns and the fitness level of an individual; and to identify necessary contacts in the event of a medical emergency while the individual is participating in a fitness activity.

Routine uses of records maintained in the system, including categories of users and purposes of such uses:

Information in the system may be disclosed to:

(1) The individuals listed as emergency contacts or the individual's personal physician, in the event of a medical emergency;

(2) A consultant, person or entity who contracts or subcontracts with the FDIC, to the extent necessary for the performance of the contract or subcontract. The recipient of the records shall be required to comply with the requirements of the Privacy Act of 1974, as amended (5 U.S.C. 552a); and

(3) A court, magistrate, or administrative tribunal in the course of presenting evidence, including disclosures to counsel or witnesses in the course of civil discovery, litigation, or settlement negotiations or in connection with criminal proceedings, when the FDIC is a party to the proceeding or has a significant interest in the proceeding and the information is determined to be relevant and necessary.

Policies and practices for storing, retrieving, accessing, retaining and disposing of records:

Storage:

Records are stored in paper format within individual file folders. Information recorded on index cards is stored in a card file box.

Retrievability:

Individual file folders and cards are indexed and retrieved by name.

Safeguards:

Records are maintained in lockable metal file cabinets. Access is limited to authorized employees of the contractor responsible for servicing the records in the performance of their duties.

Note: In the future, all or some portion of the records may be stored in electronic media. These records will be indexed and retrieved by name and will be password protected and accessible only by authorized personnel.

Retention and disposal:

Active records are retained indefinitely; inactive records are destroyed.

System manager(s) and address:

Health, Safety and Environmental Program Manager, Acquisition and Corporate Services Branch, Division of Administration, FDIC, 550 17th Street, NW., Washington, DC 20429.

Notification procedure:

Individuals wishing to determine if they are named in this system of records or seeking access to records maintained in this system must submit their requests in writing to the Office of the Executive Secretary, FOIA/PA Unit, FDIC, 550 17th Street, NW., Washington, DC 20429. Individuals requesting their own records must provide their name, address and a notarized statement attesting to their identity.

Record access procedures:

See “Notification procedure” above.

Contesting record procedures:

See “Notification procedure” above. Individuals wishing to contest or amend information maintained in this system should specify the information being contested, the reason for contesting it, and the proposed amendment to such information.

Record source categories:

Information is principally obtained from the individual who has applied for membership and contractor personnel. Some information may be provided by the individual's personal physician.

Exemptions claimed for the system:

None.

30-64-0022

System name:

Freedom of Information Act and Privacy Act Request Records.

System location:

Office of the Executive Secretary, FOIA/PA Unit, FDIC, 550 17th Street, NW., Washington, DC 20429. In addition, records may be maintained at the division or office level in the FDIC Washington office or at FDIC Regional offices (see Appendix A for a list of the FDIC regional offices and their addresses).

Categories of individuals covered by the system:

Individuals who have submitted requests for information pursuant to the Freedom of Information Act; individuals who have submitted requests for records about themselves under the provisions of the Privacy Act of 1974 and individuals filing an administrative appeal of a denial, in whole or part, of any such requests.

Categories of records in the system:

Contains names and addresses of individuals making written requests for access to information; written requests for amendment of records made pursuant to the Privacy Act; correspondence to or from the requester; correspondence to or from a person writing on the requester's behalf; internal FDIC memoranda; memoranda to or from other Federal agencies having a substantial interest in the determination of the request; responses to requests (including for example acknowledgment letters, fee estimate letters, and final determinations); administrative appeals of denials of access to records; administrative appeals of denials of requests for amendment of records made pursuant to the Privacy Act. These records may contain personal information retrieved in response to a request.

Note: Freedom of Information Act and Privacy Act case records may contain inquiries and requests regarding any of the FDIC's other systems of records subject to the Freedom of Information Act and Privacy Act, and information about individuals from any of these other systems may become part of this system of records.

Authority for maintenance of the system:

Sec. 9 of the Federal Deposit Insurance Act (12 U.S.C. 1819(a)); Freedom of Information Act (5 U.S.C. 552), the Privacy Act of 1974 (5 U.S.C 552a), 12 CFR part 309, and 12 CFR part 310.

Purpose(s):

The records maintained in this system are collected to process requests made under the provisions of the Freedom of Information Act and the Privacy Act. The records are also used by the FDIC to prepare reports to the Office of Management and Budget and Congress required by the Freedom of Information Act and the Privacy Act.

Routine uses of records maintained in the system, including categories of users and the purposes of such uses:

Information in this system may be disclosed:

(1) To another Federal government agency having a substantial interest in the determination of the request or for the purpose of consulting with that agency as to the propriety of access or correction of the record in order to complete the processing of requests;

(2) To a congressional office in response to an inquiry made by the congressional office at the request of the individual to whom the record pertains;

(3) To a court, magistrate, or administrative tribunal in the course of presenting evidence, including disclosures to counsel or witnesses in the course of civil discovery, litigation, or settlement negotiations or in connection with criminal proceedings, when the FDIC is a party to the proceeding or has a significant interest in the proceeding and the information is determined to be relevant and necessary;

(4) To a third party authorized in writing to receive such information by the individual about whom the information pertains;

(5) To the appropriate federal, state, or local agency or authority responsible for investigating or prosecuting a violation of or for enforcing or implementing a statute, rule, regulation, or order, when the information indicates a violation or potential violation of law, whether civil, criminal, or regulatory in nature, and whether arising by general statute or particular program statute, or by regulation, rule, or order issued pursuant thereto, and the information is determined to be relevant and necessary to the investigation and/or prosecution or enforcement action; and

(6) To the Department of the Treasury, federal debt collection centers, other appropriate federal agencies, and private collection contractors or other third parties authorized by law, for the purpose of collecting or assisting in the collection of delinquent debts owed to the FDIC. Disclosure of information contained in these records will be limited to the individual's name, Social Security number, and other information necessary to establish the identity of the individual, and the existence, validity, amount, status and history of the debt.

Disclosures to consumer reporting agencies:

Disclosures may be made from this system, pursuant to subsection (b)(12) of the Privacy Act, to consumer reporting agencies in accordance with 31 U.S.C. 3711(e). (The term “consumer reporting agency” is defined by 31 U.S.C. 3701(a)(3) and 15 U.S.C. 1681a(f).) Disclosure of information contained in these records will be limited to the individual's name, Social Security number, and other information necessary to establish the identity of the individual, and the existence, validity, amount, status and history of the debt.

Policies and practices for storing, retrieving, accessing, retaining, and disposing of records in the system:

Storage:

Records are stored in electronic media and paper format within individual file folders.

Retrievability:

Electronic media and paper format records are indexed and retrieved by the requester's name or by unique log number assigned to the request. Records sometimes are retrieved by reference to the name of the requester's firm, if any, or the subject matter of the request.

Safeguards:

Electronic files are password protected and accessible only by authorized personnel. File folders are maintained in lockable metal file cabinets.

Retention and disposal:

Records for Freedom of Information Act requests which are granted, withdrawn or closed for non-compliance or similar reason, are destroyed two years after the date of the reply. Records for all other Freedom of Information Act requests (e.g., requests denied in part, requests denied in full, and requests for which no responsive information was located) are destroyed six years after the date of the reply, unless the denial is appealed, in which case the request and related documentation are destroyed six years after the final agency determination or three years after final adjudication by the courts, whichever is later. Documents maintained for control purposes are destroyed six years after the last entry. Documents maintained for processing Privacy Act requests are disposed of in accordance with established disposition schedules for individual records, or five years after the date of the disclosure was made, whichever is later.

System manager(s) and address:

Senior Program Attorney, FOIA/PA Unit, Office of the Executive Secretary, FDIC, 550 17th Street, NW., Washington, DC 20429.

Notification procedure:

Individuals wishing to determine if they are named in this system of records or seeking access to records maintained in this system must submit their request in writing to Office of the Executive Secretary, FOIA/PA Unit, FDIC, 550 17th Street, NW., Washington, DC 20429. Individuals requesting their own records must provide their name, address and a notarized statement attesting to their identity.

Records access procedures:

The FDIC systems of records that are exempt from certain Privacy Act requirements may be included in this system as part of a Freedom of Information Act or Privacy Act case record. Such material retains its exemption if it is included in this system of records (see section of this notice titled, “Systems Exempted from Certain Provisions of the Act”). Individuals seeking access to their records in this system should direct their request to the Office of the Executive Secretary, FOIA/PA Unit, FDIC, 550 17th Street, NW., Washington, DC 20429.

Contesting record procedures:

The FDIC systems of records that are exempt from certain Privacy Act requirements may be included in this system as part of a Freedom of Information Act or Privacy Act case record. Such material retains its exemption if it is included in this system of records (see section of this notice titled, “Systems exempted from certain provisions of the act”). Individuals wishing to contest or amend information maintained in the system should direct their request to the Office of the Executive Secretary, FOIA/PA Unit, FDIC, 550 17th Street, NW., Washington, DC 20429, stating specifically what information is being contested, the reasons for contesting it, and the proposed amendment to such information.

Record source categories:

Requesters and persons acting on behalf of requesters, FDIC offices and divisions, other Federal agencies having a substantial interest in the determination of the request, and employees processing the requests.

Exemptions claimed for the system:

The FDIC has claimed exemptions for several of its other systems of records under 5 U.S.C. 552a (k)(1), (k)(2), and (k)(5) and 12 CFR 310.13. During the processing of a Freedom of Information Act or Privacy Act request, exempt records from these other systems of records may become part of the case record in this system of records. To the extent that exempt records from other FDIC systems of records are entered or become part of this system, the FDIC has claimed the same exemptions, and any such records compiled in this system of records from any other system of record continue to be subject to any exemption(s) applicable for the records as they have in the primary systems of records of which they are a part.

30-64-0023

System name:

Affordable Housing Program Records.

System location:

Field Operations Branch, Division of Resolutions and Receiverships, FDIC, 1910 Pacific Avenue, Dallas, Texas 75201.

Categories of individuals covered by the system:

Purchasers and prospective purchasers of residential properties offered for sale through the FDIC's Affordable Housing Program.

Note: To be considered a prospective purchaser for purposes of this record system, the individual must have (1) completed and signed an FDIC “Certification of Income Eligibility” and (2) delivered the form to an authorized representative of the FDIC's Affordable Housing Program.

Categories of records in the system:

Contains the purchaser's or prospective purchaser's income qualification form and substantiating documents (such as personal financial statements, income tax returns, assets or collateral verifications, appraisals, and sources of income); copies of sales contracts, deeds, or other recorded instruments; intra-agency forms, memoranda, or notes related to the property and purchaser's participation in the FDIC's Affordable Housing Program; correspondence; and other documents related to the FDIC's Affordable Housing Program.

Authority for maintenance of the system:

Secs. 9, 11, 13, and 40 of the Federal Deposit Insurance Act (12 U.S.C. 1819, 1821, 1823, 1831q).

Purpose(s):

The records are collected and maintained to determine individual eligibility to participate in the FDIC Affordable Housing Program; monitor compliance by individuals with purchaser income restrictions; and to verify that an individual qualifies to participate in the program. The information in the system supports the FDIC's liquidation of qualifying residential housing units and the FDIC goal to provide homeownership for low-income and moderate-income families.

Routine uses of records maintained in the system, including categories of users and the purposes of such uses:

Information in this system may be disclosed, subject to applicable law:

(1) To a congressional office in response to an inquiry made by the congressional office at the request of the individual to whom the record pertains;

(2) To a court, magistrate, or administrative tribunal in the course of presenting evidence, including disclosures to counsel or witnesses in the course of civil discovery, litigation, or settlement negotiations or in connection with criminal proceedings, when the FDIC is a party to the proceeding or has a significant interest in the proceeding and the information is determined to be relevant and necessary;

(3) To the appropriate Federal, State, or local agency or authority responsible for investigating or prosecuting a violation of or for enforcing or implementing a statute, rule, regulation, or order, when the information indicates a violation or potential violation of law, whether civil, criminal, or regulatory in nature, and whether arising by general statute or particular program statute, or by regulation, rule, or order issued pursuant thereto;

(4) To contractors retained by the FDIC to perform services in connection with the implementation of the FDIC Affordable Housing Program such as brokers, appraisers, mortgage lenders, nonprofit organizations, counsel, and consultants; and

(5) To mortgage companies, financial institutions, federal agencies (such as the Federal Housing Administration, the Housing and Urban Development Agency, the Farm Service Agency, and the Veterans Administration), or state and local government housing agencies where information is determined to be relevant to an application or request for a loan, grant, financial benefit, or other type of assistance or entitlement.

Policies and practices for storing, retrieving, accessing, retaining, and disposing of records in the system:

Storage:

Records are stored in electronic media and in paper format within individual file folders.

Retrievability:

Electronic media and paper format are accessible by name of purchaser or prospective purchaser and by address of the property purchased.

Safeguards:

Electronic files are password protected and accessible only by authorized personnel. File folders are maintained in lockable metal file cabinets accessible only by authorized personnel.

Retention and disposal:

If no longer needed by the FDIC, electronic media and paper format files and information are destroyed six years after termination of the closed bank receivership from which the eligible affordable housing property was acquired.

System manager(s) and address:

Deputy Director, Field Operations Branch, Division of Resolutions and Receiverships, FDIC, 1910 Pacific Avenue, Dallas, Texas 75201.

Notification procedure:

Individuals who wish to determine if they are named in this system of records or seeking access to records maintained in this system, must submit their request in writing to the Office of the Executive Secretary, FOIA/PA Unit, FDIC, 550 17th Street, NW., Washington, DC 20429. The request must contain the purchaser's or the prospective purchaser's name, property address, and a notarized statement attesting to their identity.

Records access procedures:

See “Notification procedure” above.

Contesting record procedures:

See “Notification procedure” above. Individuals wishing to contest or amend information maintained in this system should specify the information being contested, the reasons for contesting it, and the proposed amendment to such information.

Record source categories:

Information is obtained from the individual upon whom the record is maintained; information pertaining to an individual may, in some cases, be supplemented with reports from credit bureaus and/or other services.

Exemptions claimed for the system:

None.

30-64-0024

System name:

Unclaimed Deposit Account Records.

System location:

Operations Branch, Division of Resolutions and Receiverships, Field Operations Branch, Divisions of Resolutions and Receiverships, FDIC, 1910 Pacific Avenue, Dallas, Texas 75201.

Categories of individuals covered by the system:

Individuals identified as deposit account owners of unclaimed insured deposits of a closed insured depository institution for which the FDIC was appointed receiver after January 1, 1989.

Categories of records in the system:

Deposit account records, including signature cards, last known home address, social security number, name of insured depository institution, relating to unclaimed insured deposits or insured transferred deposits from closed insured depository institutions for which the FDIC was appointed receiver after January 1, 1989.

Authority for maintenance of the system:

Secs. 9, 11, and 12 of the Federal Deposit Insurance Act (12 U.S.C. 1819, 1821, and 1822).

Purpose(s):

The information in this system is used to process inquiries and claims of individuals with respect to unclaimed insured deposit accounts of closed insured depository institutions for which the FDIC was appointed receiver after January 1, 1989, and to assist in complying with the requirements of the Unclaimed Deposits Amendments Act.

Routine uses of records maintained in the system, including categories of users and purposes of such uses:

Information in this system of records may be disclosed, subject to applicable law:

(1) To the appropriate State agency accepting custody of unclaimed insured deposits;

(2) To a congressional office in response to an inquiry made by the congressional office at the request of the individual to whom the record pertains;

(3) To the appropriate Federal, state or local agency or authority responsible for investigating or prosecuting a violation of, or for enforcing or implementing a statute, rule, regulation, or order, when the information indicates a violation or potential violation of law, whether civil, criminal, or regulatory in nature, and whether arising by general statute or particular program statute, or by regulation, rule or order issued pursuant thereto; and

(4) To a court, magistrate, or administrative tribunal in the course of presenting evidence, including disclosures to counsel or witnesses in the course of civil discovery, litigation, or settlement negotiations or in connection with criminal proceedings, when the FDIC is a party to the proceeding or has a significant interest in the proceeding and the information is determined to be relevant and necessary.

Policies and practices for storing, retrieving, accessing, retaining, and disposing of records in the system:

Storage:

Records are stored in electronic media and in paper format.

Retrievability:

Electronic media and paper format are indexed and retrieved by depository institution name, depositor name, depositor social security number, or deposit account number.

Safeguards:

Electronic files are password protected and accessible only by authorized personnel. Hard copy printouts are maintained in lockable metal file cabinets accessible only to authorized personnel.

Retention and disposal:

If the appropriate State has accepted custody of unclaimed deposits, a record of the unclaimed deposits will be retained by the FDIC during the custody period of ten years. Such records will subsequently be destroyed in accordance with the FDIC's records retention policy in effect at the time of return of any deposits to the FDIC from the State. If the appropriate State has declined to accept custody of the unclaimed deposits of the closed insured depository institution, the FDIC will retain the unclaimed deposit records and upon termination of the receivership of the closed insured depository institution, the records will be destroyed in accordance with the FDIC's records retention policy.

System manager(s) and address:

Assistant Director, Operations Branch, Division of Resolutions and Receiverships, FDIC, 550 17th Street, NW., Washington, DC 20429.

Notification procedure:

Individuals wishing to determine if they are named in this system of records or seeking access to records maintained in this system must submit their request in writing to the Office of the Executive Secretary, FOIA/PA Unit, FDIC, 550 17th Street, NW., Washington, DC 20429. The request must contain the individual's name, address, the name and address of the closed depository institution, and a notarized statement attesting to their identity.

Record access procedures:

Same as “Notification” above.

Contesting record procedures:

Same as “Notification” above. Individuals wishing to contest or amend information maintained in this system should specify the information being contested, the reasons for contesting it, and the proposed amendment to such information.

Record source categories:

Information originates from deposit records of closed insured depository institutions. Records of unclaimed transferred deposits are provided to the FDIC from assuming depository institutions to which the FDIC transferred deposits upon closing of the depository institution.

Exemptions claimed for the system:

None.

Appendix A

Federal Deposit Insurance Corporation Regional Offices

Atlanta Regional Office, FDIC, One Atlantic Center, 1201 West Peachtree Street, NE., Suite 1600, Atlanta, Georgia 30309-3415

Boston Regional Office, FDIC, 15 Braintree Hill Office Park, Braintree, Massachusetts 02184-8701

Chicago Regional Office, FDIC, 500 West Monroe Street, Suite 3300, Chicago, Illinois 60661

Dallas Regional Office, FDIC, 1910 Pacific Avenue, 20th Floor, Dallas, Texas 75201-4586

Kansas City Regional Office, FDIC, 2345 Grand Boulevard, Suite 1200, Kansas City, Missouri 64108-2638

Memphis Regional Office, FDIC, 5100 Poplar Avenue, Suite 1900, Memphis, Tennessee 38137-5900

New York City Regional Office, FDIC, 20 Exchange Place, Room 6014, New York, New York 10005

San Francisco Regional Office, FDIC, 25 Ecker Street, Suite 2300, San Francisco, California 94105-2780

By direction of the Board of Directors.
Dated at Washington, DC, this 8th day of May, 2001.
Federal Deposit Insurance Corporation.
Robert E. Feldman,
Executive Secretary.

[FR Doc. 01-12209 Filed 5-15-01; 8:45 am]

BILLING CODE 6714-01-P